ENVIRONMENTAL PROTECTION AGENCY

40 CFR Part 98

[EPA-HQ-OAR-2011-0028; FRL-9637-2]

RIN 2060-AQ70

Proposed Confidentiality Determinations for the Petroleum and Natural Gas Systems Source Category, and Amendments to Table A-7, of the Greenhouse Gas Reporting Rule

AGENCY: Environmental Protection Agency (EPA).

ACTION: Proposed rule.

SUMMARY: This action re-proposes confidentiality determinations for the data elements in subpart W, the petroleum and natural gas systems category, of the Mandatory Reporting of Greenhouse Gases Rule. On July 7, 2010, the EPA proposed confidentiality determinations for then-proposed subpart W data elements and is now issuing this re-proposal due to significant changes to certain data elements in the final subpart W reporting requirements. The EPA is also proposing to assign 10 recently added reporting elements as “Inputs to Emission Equations” and to defer their reporting deadline to March 31, 2015, consistent with the agency's approach in the August 25, 2011 rule which finalized the deferral of some reporting data elements that are inputs to emissions equations.

DATES: Comments. Comments must be received on or before March 26, 2012 unless a public hearing is held, in which case comments must be received on or before April 9, 2012.

Public Hearing. To request a hearing, please contact the person listed in the FOR FURTHER INFORMATION CONTACT section by March 2, 2012. Upon such request, the EPA will hold the hearing on March 12, 2012 in the Washington, DC area. The EPA will publish further information about the hearing in the Federal Register if a hearing is requested.

ADDRESSES: You may submit your comments, identified by Docket ID No. EPA-HQ-OAR-2011-0028, by one of the following methods:

• Federal eRulemaking Portal: http://www.regulations.gov. Follow the online instructions for submitting comments.

• Email: GHGReportingCBI@epa.gov.

• Fax: (202) 566-1741.

• Mail: Environmental Protection Agency, EPA Docket Center (EPA/DC), Mailcode 6102T, Attention Docket ID No. EPA-HQ-OAR-2011-0028, 1200 Pennsylvania Avenue NW., Washington, DC 20460.

• Hand Delivery: EPA Docket Center, Public Reading Room, EPA West Building, Room 3334, 1301 Constitution Avenue NW., Washington, DC 20004. Such deliveries are only accepted during the Docket's normal hours of operation, and special arrangements should be made for deliveries of boxed information.

Instructions: Direct your comments to Docket ID No. EPA-HQ-OAR-2011-0028. The EPA's policy is that all comments received will be included in the public docket without change and may be made available online at http://www.regulations.gov, including any personal information provided, unless the comment includes information claimed to be confidential business information (CBI) or other information whose disclosure is restricted by statute.

Do not submit information that you consider to be CBI or otherwise protected through http://www.regulations.gov or email. Send or deliver information identified as CBI to only the mail or hand/courier delivery address listed above, attention: Docket ID No. EPA-HQ-OAR-2011-0028. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, then the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, EPA West, Room B102, 1301 Constitution Ave. NW., Washington, DC. This Docket Facility is open from 8:30 a.m. to 4:30 p.m., Monday through Friday, excluding legal holidays. The telephone number for the Public Reading Room is (202) 566-1744, and the telephone number for the Air Docket is (202) 566-1742.

FOR FURTHER GENERAL INFORMATION CONTACT: Carole Cook, Climate Change Division, Office of Atmospheric Programs (MC-6207J), Environmental Protection Agency, 1200 Pennsylvania Ave. NW., Washington, DC 20460; telephone number: (202) 343-9263; fax number: (202) 343-2342; email address: GHGReportingRule@epa.gov. For technical information and implementation materials, please go to the Web site http://www.epa.gov/climatechange/emissions/subpart/w.html. To submit a question, select Rule Help Center, followed by “Contact Us.”

SUPPLEMENTARY INFORMATION: Worldwide Web (WWW). In addition to being available in the docket, an electronic copy of this proposal, memoranda to the docket, and all other related information will also be available through the WWW on EPA's greenhouse gas reporting rule Web site at http://www.epa.gov/climatechange/emissions/ghgrulemaking.html.

Additional information on submitting comments. To expedite review of your comments by agency staff, you are encouraged to send a separate copy of your comments, in addition to the copy you submit to the official docket, to Carole Cook, U.S. EPA, Office of Atmospheric Programs, Climate Change Division, Mail Code 6207-J, Washington, DC 20460, telephone (202) 343-9263, email address: GHGReportingRule@epa.gov.

Acronyms and Abbreviations. The following acronyms and abbreviations are used in this document.

API American Petroleum Institute

BAMM Best Available Monitoring Methods

BOEMRE Bureau of Energy Management and Regulatory Enforcement

CAA Clean Air Act

CEMS continuous emission monitoring system

CO2 carbon dioxide

CO2e carbon dioxide equivalent

CBI confidential business information

CFR Code of Federal Regulations

EIA U.S. Energy Information Administration

EOR enhanced oil recovery

EPA U.S. Environmental Protection Agency

FERC Federal Energy Regulatory Commission

GASIS Gas Information System

GHG greenhouse gas

ICR Information Collection Request

LDC local natural gas distribution company

LNG liquefied natural gas

MMBtu million Btu

MMscfd million standard cubic feet per day

NESHAP national emission standards for hazardous air pollutants

NGLs natural gas liquids

N2O nitrous oxide

NTTAA National Technology Transfer and Advancement Act of 1995

OMB Office of Management & Budget

psia pounds per square inch

RFA Regulatory Flexibility Act

T-D transmission—distribution

UIC Underground Injection Control

UMRA Unfunded Mandates Reform Act of 1995

U.S. United States

WWW Worldwide Web

Organization of This Document. The following outline is provided to aid in locating information in this preamble.

I. General Information

A. What is the purpose of this action?

B. Does this action apply to me?

C. Legal Authority

D. What should I consider as I prepare my comments to the EPA?

II. Background and General Rationale

A. Background on Subpart W CBI Re-Proposal

B. Background on Data Elements in the “Inputs to Emission Equations” Data Category

III. Re-Proposal of CBI Determinations for Subpart W

A. Overview

B. Approach to Making Confidentiality Determinations

C. Proposed Confidentiality Determinations for Individual Data Elements in Two Data Categories

D. Commenting on the Proposed Confidentiality Determinations

IV. Proposed Deferral of Inputs to Emission Equations for Subpart W and Amendments to Table A-7

V. Statutory and Executive Order Reviews

A. Executive Order 12866: Regulatory Planning and Review and Executive Order 13563: Improving Regulation and Regulatory Review

B. Paperwork Reduction Act

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions That Significantly Affect Energy Supply, Distribution, or Use

I. National Technology Transfer and Advancement Act

J. Executive Order 12898: Federal Actions To Address Environmental Justice in Minority Populations and Low-Income Populations

I. General Information

A. What is the purpose of this action?

The EPA is re-proposing confidentiality determinations for the data elements in subpart W of 40 CFR part 98 of the Mandatory Reporting of Greenhouse Gases Rule (hereinafter referred to as “Part 98”). Subpart W of Part 98 requires monitoring and reporting of greenhouse gas (GHG) emissions from petroleum and natural gas systems. The petroleum and natural gas systems source category (hereinafter referred to as “subpart W”) includes facilities that have emissions equal to or greater than 25,000 metric tons carbon dioxide equivalent (mtCO2e).

The proposed confidentiality determinations in this notice cover all of the data elements that are currently in subpart W except for those that are in the “Inputs to Emission Equations” data category. The covered data elements and their proposed data category assignments are listed by data category in the memorandum entitled “Proposed Data Category Assignments for Subpart W” in Docket ID No. EPA-HQ-OAR-2011-0028.

This proposal also contains updates to Table A-7 of Part 98, the table of inputs to emission equations whose reporting deadline we have deferred until 2015. These data elements were added or revised to subpart W as a result of technical revisions made on December 23, 2011 (76 FR 80554).

B. Does this action apply to me?

This proposal affects entities that are required to submit annual GHG reports under subpart W of Part 98. Subpart W applies to facilities in eight segments of the petroleum and natural gas industry that emit GHGs greater than or equal to 25,000 metric tons of CO2 equivalent per year. These eight segments are:

• Offshore petroleum and natural gas production (from offshore platforms).

• Onshore petroleum and natural gas production (including equipment on a single well-pad or associated with a single well pad used in the production, extraction, recovery, lifting, stabilization, separation or treating of petroleum and/or natural gas (including condensate).

• Onshore natural gas processing (separation of natural gas liquids (NGLs) or non-methane gases from produced natural gas, or the separation of NGLs into one or more component mixtures).

• Onshore natural gas transmission compression (use of compressors to move natural gas from production fields, natural gas processing plants, or other transmission compressors through transmission pipelines to natural gas distribution pipelines, LNG storage facilities, or into underground storage).

• Underground natural gas storage (subsurface storage of natural gas, natural gas underground storage processes and operations, and wellheads connected to the compression units located at the facility where injections and recovering of natural gas takes place into and from underground reservoirs).

• Liquefied natural gas (LNG) storage (onshore LNG storage vessels located above ground, equipment for liquefying natural gas, compressors to capture and re-liquefy boil-off-gas, re-condensers, and vaporization units for regasification of the liquefied natural gas).

• LNG import and export facilities (onshore and offshore equipment importing or exporting LNG via ocean transport, including liquefaction of natural gas to LNG, storage of LNG, transfer of LNG, and re-gasification of LNG to natural gas).

• Natural gas distribution (distribution pipelines and metering and regulating equipment at metering-regulating stations that re operated by a local distribution company (LDC) within a single state that is regulated as a separate operating company by a public utility commission or that is operated as an independent municipally-owned distribution system).

For a summary of the source category definitions for subpart W, which includes further background on these eight industry segments, please see 40 CFR 98.230 of the subpart W final rule (75 FR 74490, November 30, 2010 and 76 FR 80554).

The Administrator determined that this action is subject to the provisions of Clean Air Act (CAA) section 307(d). If finalized, these amended regulations could affect owners or operators of petroleum and natural gas systems. Regulated categories and entities may include those listed in Table 1 of this preamble:

Table 1—Examples of Affected Entities by Category
Source category | NAICS | Examples of affected facilities
Petroleum and Natural Gas Systems | 486210 | Pipeline transportation of natural gas.
| 221210 | Natural gas distribution facilities.
| 211 | Extractors of crude petroleum and natural gas.
| 211112 | Natural gas liquid extraction facilities.

Table 1 of this preamble is not intended to be exhaustive, but rather provides a guide for readers regarding facilities likely to be affected by this action. Other types of facilities not listed in the table could also be affected. To determine whether you are affected by this action, you should carefully examine the applicability criteria found in 40 CFR part 98 subpart A, and subpart W. If you have questions regarding the applicability of this action to a particular facility, consult the person listed in the preceding FOR FURTHER INFORMATION CONTACT section.

C. Legal Authority

The EPA is proposing rule amendments under its existing CAA authority, specifically authorities provided in CAA section 114. As stated in the preamble to the 2009 final rule (74 FR 56260, October 30, 2009) and the Response to Comments on the Proposed Rule, Volume 9, Legal Issues, CAA section 114 provides the EPA broad authority to obtain the information in Part 98, including those in subpart W, because such data would inform and are relevant to the EPA's carrying out a wide variety of CAA provisions. As discussed in the preamble to the initial proposed Part 98 (74 FR 16448, April 10, 2009), CAA section 114(a)(1) authorizes the Administrator to require emissions sources, persons subject to the CAA, manufacturers of control or process equipment, or persons whom the Administrator believes may have necessary information to monitor and report emissions and provide such other information the Administrator requests for the purposes of carrying out any provision of the CAA.

D. What should I consider as I prepare my comments to the EPA?

1. Submitting Comments That Contain CBI

Clearly mark the part or all of the information that you claim to be CBI. For CBI information in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information marked as CBI will not be disclosed except in accordance with procedures set forth in 40 CFR part 2.

Do not submit information that you consider to be CBI or otherwise protected through http://www.regulations.gov or email. Send or deliver information identified as CBI to only the mail or hand/courier delivery address listed above, attention: Docket ID No. EPA-HQ-OAR-2011-0028.

If you have any questions about CBI or the procedures for claiming CBI, please consult the person identified in the FOR FURTHER INFORMATION CONTACT section.

2. Tips for Preparing Your Comments

When submitting comments, remember to:

Identify the rulemaking by docket number and other identifying information (e.g., subject heading, Federal Register date and page number).

Follow directions. The EPA may ask you to respond to specific questions or organize comments by referencing a CFR part or section number.

Explain why you agree or disagree, and suggest alternatives and substitute language for your requested changes.

Describe any assumptions and provide any technical information and/or data that you used.

If you estimate potential costs or burdens, explain how you arrived at your estimate in sufficient detail to allow us to reproduce your estimate.

Provide specific examples to illustrate your concerns and suggest alternatives.

Explain your views as clearly as possible, avoiding the use of profanity or personal threats.

Make sure to submit your information and comments by the comment period deadline identified in the preceding section titled DATES. To ensure proper receipt by the EPA, be sure to identify the docket ID number assigned to this action in the subject line on the first page of your response. You may also provide the name, date, and Federal Register citation.

To expedite review of your comments by agency staff, you are encouraged to send a separate copy of your comments, in addition to the copy you submit to the official docket, to Carole Cook, U.S. EPA, Office of Atmospheric Programs, Climate Change Division, Mail Code 6207-J, Washington, DC, 20460, telephone (202) 343-9263, email GHGReportingCBI@epa.gov. You are also encouraged to send a separate copy of your CBI information to Carole Cook at the provided mailing address in the FOR FURTHER INFORMATION CONTACT section. Please do not send CBI to the electronic docket or by email.

II. Background and General Rationale

A. Background on Subpart W CBI Re-Proposal

On October 30, 2009, the EPA published the Mandatory Reporting of Greenhouse Gases Final Rule, 40 CFR part 98, for collecting information regarding greenhouse gases (GHGs) from a broad range of industry sectors (74 FR 56260). Under Part 98 and its subsequent amendments, certain facilities and suppliers above specified thresholds are required to report GHG information to the EPA annually. The data to be reported consist of GHG emission and supply information as well as other data, including information necessary to characterize, quantify, and verify the reported emissions and supplied quantities. In the preamble to Part 98, we stated, “[t]hrough a notice and comment process, we will establish those data elements that are `emissions data' and therefore [under CAA section 114(c)] will not be afforded the protections of CBI. As part of that exercise and in response to requests provided in comments, we may identify classes of information that are not emissions data, and are CBI” (74 FR 56287, October 30, 2009).

On July 7, 2010, the EPA proposed confidentiality determinations for data elements of all GHGRP subparts of Part 98 (75 FR 39094, hereinafter referred to as the “July 7, 2010 CBI Proposal”).

On May 26, 2011, the EPA published the final CBI determinations for the data elements in 34 Part 98 subparts, except for those data elements that were assigned to the “Inputs to Emission Equations” data category (76 FR 30782, hereinafter referred to as the “Final CBI Rule”). That final rule did not include CBI determinations for subpart W for the reasons described above.

The Final CBI Rule: (1) Created and finalized 22 data categories for part 98 data elements; (2) assigned data elements in 34 subparts to appropriate data categories; (3) for 16 data categories, issued category-based final CBI determinations for all data elements assigned to the category; and (4) for the other five data categories (excluding the inputs to emission equations category), the EPA determined that the data elements assigned to those categories were not “emission data” but made individual final CBI determination for those data elements. Finally, the EPA did not make final confidentiality determinations for the data elements assigned to the “Inputs to Emission Equations” data category.

Subpart W reporting requirements were finalized on November 30, 2010 (75 FR 74458), and the EPA has published two revisions to the final subpart W reporting requirements since that data. On September 27, 2011, the EPA published the final rule: “Mandatory Reporting of Greenhouse Gases: Petroleum and Natural Gas Systems: Revisions to Best Available Monitoring Method Provisions” (76 FR 59533, hereinafter referred to as the “BAMM Final Rule”), which revised certain BAMM extension request data elements and added a new data element in subpart W. Additionally, on December 23, 2011 the EPA published the final rule: “Mandatory Reporting of Greenhouse Gases: Technical Revisions to the Petroleum and Natural Gas Systems Category of the Greenhouse Gas Reporting” (76 FR 80554, hereinafter referred to as the “Technical Revisions Rule”), which provided clarification on existing requirements, increased flexibility for certain calculation methods, amended data reporting requirements, clarified terms and definitions, and made technical corrections. This action finalized the addition or revision of over 200 subpart W data elements. Today's re-proposal of confidentiality determinations for data elements addresses the subpart W data elements as finalized, including the revisions in the BAMM Final Rule and Technical Revisions Rule.

B. Background on Data Elements in the “Inputs to Emission Equations” Data Category

The EPA received numerous public comments on the July 7, 2010 CBI Proposal. In particular, the EPA received comments that raised serious concerns regarding the public availability of data in the “Inputs to Emission Equations” category. In light of those comments, the EPA took three concurrent actions, which are as follows:

• Call for Information: Information on Inputs to Emission Equations under the Mandatory Reporting of Greenhouse Gases Rule, 75 FR 81366 (December 27, 2010) (hereinafter referred to as the “Call for Information”).

• Change to the Reporting Date for Certain Data Elements Required Under the Mandatory Reporting of Greenhouse Gases Rule; Proposed Rule, 75 FR 81350 (December 27, 2010) (hereinafter referred to as the “Deferral Proposal”).

• Interim Final Regulation Deferring the Reporting Date for Certain Data Elements Required Under the Mandatory Reporting of Greenhouse Gases Rule, 75 FR 81338 (December 27, 2010) (hereinafter referred to as the “Interim Final Rule”).

On August 25, 2011, the EPA published the final “Change to the Reporting Date for Certain Data Elements Required Under the Mandatory Reporting of Greenhouse Gases Rule” (76 FR 53057, hereinafter referred to as the “Final Deferral”). In that action, the EPA deferred the deadline for reporting some “Inputs to Emission Equations” data elements to March 31, 2013, and others to March 31, 2015. Data elements with the March 31, 2013 reporting deadline are identified in Table A-6 of subpart A and those with the March 31, 2015 reporting deadline are identified in Table A-7 to subpart A. For subpart W, the EPA deferred the reporting of all data elements classified as “Inputs to Emission Equations” as of the publication of the Final Deferral until March 31, 2015.

Currently, Table A-7 does not reflect the changes or additions to inputs to equations made in the Technical Revisions Rule. The agency is now addressing this in today's action.

III. Re-Proposal of CBI Determinations for Subpart W

A. Overview

We propose to assign each of the data elements in subpart W, a direct emitter subpart, to one of eleven direct emitter data categories created in the Final CBI Rule. As noted previously, for 8 of the 11 direct emitter categories, the EPA has made categorical confidentiality determinations, finalized in the Final CBI Rule. For these eight categories, the EPA is proposing to apply the categorical confidentiality determinations (made in the Final CBI Rule) to the subpart W reporting elements assigned to each of these categories.

In the Final CBI Rule, for 2 of the 11 data categories, the EPA did not make categorical confidentiality determinations, but rather made confidentiality determinations on an element by element basis. We are therefore following the same approach in this action for the subpart W reporting elements assigned to these 2 categories.

Lastly, in the Final CBI Rule, for the final data category, “Inputs to Emissions Equations”; the EPA did not make a final confidentiality determination and indicated that this issue would be addressed in a future action. Please note that in the Final Deferral, the EPA already assigned certain subpart W data elements to the “Inputs to Emission Equations” data category. However, since then, 10 data elements were added to subpart W after the Final Deferral was promulgated. The EPA is proposing to assign these 10 new data elements to the “Inputs to Emission Equations” data category, as well as proposing to defer the reporting of these inputs until 2015. Please see the memorandum entitled “Proposed Data Category Assignments for Subpart W” in Docket ID No. EPA-HQ-OAR-2011-0028 for a listing of the data elements that the EPA is proposing to assign to this data category. Note that we are not proposing confidentiality determinations at this time for any subpart W data elements assigned to the “Inputs to Emissions Equations” data category and plan to propose confidentiality determinations for elements in this data category in a later action. Please see the following Web site for further information on this topic: http://www.epa.gov/climatechange/emissions/CBI.html.

Table 2 of this preamble summarizes the confidentiality determinations that were made in the Final CBI Rule for the following direct emitter data categories created in that notice. Please note that the “Inputs to Emission Equations” data category is excluded, as final determinations for that category have not yet been made.

Table 2—Summary of Final Confidentiality Determinations for Direct Emitter Data Categories
Data category | Confidentiality determination for data elements in each category: Emission data ᵃ | Confidentiality determination for data elements in each category: Data that are not emission data and not CBI | Confidentiality determination for data elements in each category: Data that are not emission data but are CBI ᵇ
Facility and Unit Identifier Information | X |  |
Emissions | X |  |
Calculation Methodology and Methodological Tier | X |  |
Data Elements Reported for Periods of Missing Data that are Not Inputs to Emission Equations | X |  |
Unit/Process “Static” Characteristics that are Not Inputs to Emission Equations |  | X ᶜ | X ᶜ
Unit/Process Operating Characteristics that are Not Inputs to Emission Equations |  | X ᶜ | X ᶜ
Test and Calibration Methods |  | X |
Production/Throughput Data that are Not Inputs to Emission Equations |  |  | X
Raw Materials Consumed that are Not Inputs to Emission Equations |  |  | X
Process-Specific and Vendor Data Submitted in BAMM Extension Requests |  |  | X
ᵃ Under CAA section 114(c), “emission data” are not entitled to confidential treatment. The term “emission data” is defined at 40 CFR 2.301(a)(2)(i).
ᵇ Section 114(c) of the CAA affords confidential treatment to data (except emission data) that are considered CBI.
ᶜ In the Final CBI Rule, this data category contains both data elements determined to be CBI and those determined not to be CBI.

We are requesting comment on several aspects of this proposal. First, we seek comment on the proposed data category assignment for each of these data elements. If you believe that the EPA has improperly assigned certain data elements in this subpart to one of the data categories, please provide specific comments identifying which data elements may be mis-assigned along with a detailed explanation of why you believe them to be incorrectly assigned and in which data category you believe they best would belong.

Second, we seek comment on our proposal to apply the categorical confidentiality determinations (made in the Final CBI Rule for eight direct emitter data categories) to the data elements in subpart W that are assigned to those categories.

Third, for those data elements assigned to the two direct emitter data categories without categorical CBI determinations, we seek comment on the individual confidentiality determinations we are proposing for these data elements. If you comment on this issue, please provide specific comment along with detailed rationale and supporting information on whether such data element does or does not qualify as CBI.

Because this is a re-proposal, the EPA is not responding to previous comments submitted on the July 7, 2010 CBI Proposal relative to the data elements in this subpart. Although the EPA considered those comments when developing this re-proposal, we encourage you to resubmit all relevant comments to ensure their consideration by the EPA in this rulemaking. In resubmitting previous comments, please make any necessary changes to clarify that you are addressing the re-proposal and add details as requested in Section III.D of this preamble.

B. Approach To Making Confidentiality Determinations

For a direct emitter subpart such as subpart W, the EPA proposes to assign each data element to one of 11 direct emitter data categories. As noted previously, the EPA made categorical confidentiality determinations for eight direct emitter data categories, and the EPA proposes to apply those final determinations to the subpart W data elements assigned to those categories in this rulemaking. For the data elements in the two non-inputs direct emitter data categories that do not have categorical confidentiality determinations, we are proposing to make confidentiality determinations on an individual data element basis.¹

¹ As mentioned above, EPA determined that data elements in these two categories are not “emission data” under CAA section 114(c) and 40 CFR 2.301(a)(2)(i) for purposes of determining the GHG emissions to be reported under Part 98. That determination applies to data elements in subpart W assigned to those categories through this rulemaking.

The following two direct emitter data categories do not have category-based CBI determinations: “Unit/Process `Static' Characteristics That are Not Inputs to Emission Equations” and “Unit/Process Operating Characteristics That are Not Inputs to Emission Equations.” For these two categories, the EPA evaluated the individual data elements assigned to these categories to determine whether individual data elements qualify as CBI. In the sections below, the EPA explains the data elements in these two categories and states the reasons for proposing to determine that each does or does not qualify as CBI under CAA section 114(c). The EPA is specifically soliciting comments on the CBI proposals for data elements in these two data categories. In section III.C of this preamble, the data elements in these two data categories are listed individually by data category along with the proposed confidentiality determination. The data elements along with their proposed confidentiality determinations are also listed in the memorandum entitled “Proposed Data Category Assignments for Subpart W” in Docket ID No. EPA-HQ-OAR-2011-0028.

C. Proposed Confidentiality Determinations for Individual Data Elements in Two Data Categories

The EPA is proposing to assign 28 subpart W data elements to the “Unit/Process ‘Static’ Characteristics that Are Not Inputs to Emission Equations” data category because they are basic characteristics of units, equipment, abatement devices, and other facility-specific characteristics that do not vary with time or with the operations of the process (and are not inputs to emission equations). These 28 data elements are proposed as non-CBI with the rationales shown in Table 3 of this preamble as follows:

Table 3—Data Elements Proposed To Be Assigned to the “Unit/Process ‘Static’ Characteristics That Are Not Inputs to Emission Equations” Data Category
Citation | Data element | Proposed rationale
1 98.236c4iiiA | Count of absorbent desiccant dehydrators | Desiccant dehydrators are used to dehydrate natural gas. The EPA is proposing that the count of desiccant dehydrators (in addition to the sizing) be non-CBI because the disclosure of this type of information is not likely to cause substantial competitive harm. Moreover, these types of equipment are typically visible on site even outside the fence-line at the operating site and are usually not concealed from public view. The EPA proposes that this data be not confidential and considered non-CBI.
2 98.236c8iA | Wellhead gas-liquid separator with oil throughput greater than or equal to 10 barrels per day, using Calculation Methodology 1 and 2 of 40 CFR 98.233(j), where reported by sub-basin category: Number of wellhead separators sending oil to atmospheric tanks | Separators are used to separate hydrocarbons into liquid and gas phases. Separators are typically connected to atmospheric storage tanks (hydrocarbon tanks) where hydrocarbon liquids are stored. The number of wellhead separators sending oil to atmospheric tanks can vary widely depending on numerous conditions, including the sizing of the tank and throughput of the separators, and the number of parties involved with handling or processing the separated constituents. Information on the count of atmospheric storage tanks with a throughput above 500 barrels of oil per day is already publicly available in Title V permits under EPA's National Emission Standards for Hazardous Air Pollutants (NESHAP) Subpart HH ² for Oil and Gas Production. Any additional information required under subpart W regarding the number of wellhead separators is the same type of information already made publicly available through the NESHAP and thus is a reasonable expansion of that information. Further, information about the number of wellhead separators sending oil to atmospheric tanks does not provide insight into the performance (ability to separate hydrocarbon into different phases) or the overall operational efficiency for the facility that could cause substantial competitive harm if disclosed. The EPA proposes that this data be not confidential and considered non-CBI.
3 98.236c8iD | Wellhead gas-liquid separator with oil throughput greater than or equal to 10 barrels per day, using Calculation Methodology 1 and 2 of 40 CFR 98.233(j), reported by sub-basin category: Count of hydrocarbon tanks at well pads | Information on the count of atmospheric storage tanks with a throughput above 500 barrels of oil per day is already publicly available in Title V permits under EPA's National Emission Standards for Hazardous Air Pollutants (NESHAP) Subpart HH ³ for Oil and Gas Production. Further, knowledge of whether the tanks are located on a well-pad or off a well-pad does not provide any insight into the operational characteristics of the facility, nor does it provide insight into sensitive or proprietary information about a facility, but rather identifies the industry segment under subpart W to which the tanks belong. The EPA proposes that this data be not confidential and considered non-CBI.
4 98.236c8iE | Wellhead gas-liquid separator with oil throughput greater than or equal to 10 barrels per day, using Calculation Methodology 1 and 2 of 40 CFR 98.233(j), reported by sub-basin category: Best estimate of count of stock tanks not at well pads receiving your oil | Information on the count of stock tanks with a throughput above 500 barrels of oil per day is already publicly available in Title V permits under EPA's National Emission Standards for Hazardous Air Pollutants (NESHAP) Subpart HH ⁴ for Oil and Gas Production. Further, knowledge of whether the tanks are located on a well-pad or off a well-pad does not provide any insight into the operational characteristics of the facility, nor does it provide insight into sensitive or proprietary information about a facility, but rather identifies the industry segment under subpart W to which the tanks belong. The EPA proposes that this data be not confidential and considered non-CBI.
5 98.236c8iG | Wellhead gas-liquid separator with oil throughput greater than or equal to 10 barrels per day, using Calculation Methodology 1 and 2 of 40 CFR 98.233(j), reported by sub-basin category: Count of tanks with emissions control measures, either vapor recovery system or flaring, for tanks at well pads | Atmospheric storage tanks receive and store hydrocarbon liquids typically from separators or from onshore production wells. Some tanks are equipped with vapor recovery units or flares to control the tank emissions. Information on the emission control devices associated with tanks are included in Title V permits under EPA's National Emission Standards for Hazardous Air Pollutants (NESHAP) Subpart HH for Oil and Gas Production. Disclosure of this data does not provide insight into the performance or the overall operational efficiency for the facility that could cause substantial competitive harm if disclosed. The EPA proposes that this data be not confidential and considered non-CBI.
6 98.236c8iH | Wellhead gas-liquid separator with oil throughput greater than or equal to 10 barrels per day, using Calculation Methodology 1 and 2 of 40 CFR 98.233(j), reported by sub-basin category: Best estimate of count of stock tanks assumed to have emissions control measures not at well pads, receiving your oil | Atmospheric storage tanks (also known as stock tanks) receive and store hydrocarbon liquids typically from separators or from onshore production wells. Some tanks are equipped with vapor recovery units or flares to control the tank emissions. Information on the emission control devices associated with tanks are included in Title V permits under EPA's National Emission Standards for Hazardous Air Pollutants (NESHAP) Subpart HH for Oil and Gas Production. Disclosure of this data does not provide insight into the performance or the overall operational efficiency for the facility that could cause substantial competitive harm if disclosed. The EPA proposes that this data be not confidential and considered non-CBI.
7 98.236c8iC | Wellhead gas-liquid separator with oil throughput greater than or equal to 10 barrels per day, using Calculation Methodology 1 and 2 of 40 CFR 98.233(j), reported by sub-basin category: Estimated average sales oil stabilized API gravity (degrees) (when using methodology 1) | API gravity is a measure of the relative density of liquid hydrocarbons and does not reveal the composition of the hydrocarbon liquid or the reporter's productivity. Data on the sales oil stabilized API gravity are made publicly available by many state agencies (e.g., the Railroad Commission of Texas). Further, information about API gravity does not provide insight into the performance or the operational efficiency for onshore petroleum and natural gas production facilities that could cause substantial competitive harm if disclosed. Moreover, this data is reported as an average for a sub-basin, which further diminishes any possible sensitivity. Because this information is publicly available and is reported only as an average for the sub-basin, the EPA proposes this data be not confidential and considered non-CBI.
8 98.236c8iC | Wellhead gas-liquid separator with oil throughput greater than or equal to 10 barrels per day, using Calculation Methodology 1 and 2 of 40 CFR 98.233(j), reported by sub-basin category: Estimated average sales oil stabilized API gravity (degrees) (when using methodology 2) | API gravity is a measure of the relative density of liquid hydrocarbons and does not reveal the composition of the hydrocarbon liquid or the reporter's productivity. Data on the sales oil stabilized API gravity are made public by many state agencies (e.g., the Railroad Commission of Texas). Further, information about API gravity does not provide insight into the performance or the operational efficiency for onshore petroleum and natural gas production facilities that could cause substantial competitive harm if disclosed. Moreover, this data is reported as an average for a sub-basin, which further diminishes any possible sensitivity. Because this information is publicly available and is reported as an average for the sub-basin, the EPA proposes that this data be not confidential and considered non-CBI.
9 98.236c8iiiE | Wellhead gas-liquid separators and wells with throughput less than 10 barrels per day, using Calculation Methodology 5 of 40 CFR 98.233(j) Equation W-15 of 40 CFR 98.233: Count of hydrocarbon tanks on well pads | Information on the count of atmospheric storage tanks with a throughput above 500 barrels of oil per day is already publicly available in Title V permits under EPA's National Emission Standards for Hazardous Air Pollutants (NESHAP) Subpart HH ⁵ for Oil and Gas Production. Further, knowledge of whether the tanks are located on a well-pad or off a well-pad does not provide any insight into the operational characteristics of the facility, nor does it provide insight into sensitive or proprietary information about a facility, but rather identifies the industry segment under subpart W to which the tanks belong. The EPA proposes that this data be not confidential and considered non-CBI.
10 98.236c8iiF | Wells with oil production greater than or equal to 10 barrels per day, using Calculation Methodology 3 and 4 of 40 CFR 98.233(j), where the following by sub-basin category are reported: Count of hydrocarbon tanks, both on and off well pads assumed to have emissions control measures: either vapor recovery system or flaring of tank vapors | Atmospheric storage tanks (also known as hydrocarbon tanks) receive and store hydrocarbon liquids typically from separators or from onshore production wells. Some tanks are equipped with vapor recovery units or flares to control the tank emissions. Information on the emission control devices associated with tanks are included in Title V permits under EPA's National Emission Standards for Hazardous Air Pollutants (NESHAP) Subpart HH for Oil and Gas Production. Disclosure of this data does not provide insight into the performance or the overall operational efficiency for the facility that could cause substantial competitive harm if disclosed. The EPA proposes that this data be not confidential and considered non-CBI.
11 98.236c8iiC | Wells with oil production greater than or equal to 10 barrels per day, using Calculation Methodology 3 and 4 of 40 CFR 98.233(j), where the following by sub-basin category are reported: Total number of wells sending oil to separators off the well pads | Information on the number of wells and their characteristics, including production levels, is publicly available through many published sources, including the U.S. Energy Information Administration,⁶ and through commercial databases that are available to the public for purchase.⁷ Although information on the number of wells sending oil to separators that are located off well pads may not be readily available from public data sources, it can generally be assumed that oil producing wells send oil either to separators or tanks that are either located on a well pad or off a well pad. Although, in some cases, oil is sent directly to tanks and not first sent to separators, this is more a function of the characteristics of the oil and is not correlated with sensitive or proprietary information about the facility or its processes. Thus, disclosure of this data does not provide insight into the performance or the overall operational efficiency for the facility that could cause substantial competitive harm if disclosed. Because information on oil producing wells is already publicly available, the EPA proposes to determine that these data elements are not confidential; they will be considered non-CBI.
12 98.236c8iiB | Wells with oil production greater than or equal to 10 barrels per day, using Calculation Methodology 3 and 4 of 40 CFR 98.233(j), where the following by sub-basin category are reported: Total number of wells sending oil directly to tanks | Information on the number of wells and their characteristics, including production levels, is publicly available through many published sources, including the U.S. Energy Information Administration,⁸ and through commercial databases that are available to the public for purchase.⁹ Although information on the number of wells sending oil directly to storage tanks may not be readily available in public data sources, it can generally be assumed that oil producing wells send oil either to separators or tanks. While in some cases, oil is sent directly to tanks and not first sent to separators, this is more a function of the characteristics of the oil and is not correlated with sensitive or proprietary information about the facility or its processes. Thus, disclosure of this data does not provide insight into the performance or the overall operational efficiency for the facility that could cause substantial competitive harm if disclosed. Because information on oil producing wells is already publicly available, the EPA proposes to determine that these data elements are not confidential; they will be considered non-CBI.
13 98.236c8iiD | Wells with oil production greater than or equal to 10 barrels per day, using Calculation Methodology 3 and 4 of 40 CFR 98.233(j), where the following by sub-basin category are reported: Sales oil API gravity range (degrees) for wells in 40 CFR 98.236(c)(8)(ii)(B) and (C) | API gravity is a measure of the relative density of liquid hydrocarbons and does not reveal the composition of the hydrocarbon liquid or the reporter's productivity. Data on the sales oil stabilized API gravity are made public by many state agencies (e.g., the Railroad Commission of Texas). Further, information about API gravity does not provide insight into the performance or the operational efficiency for onshore petroleum and natural gas production facilities that would likely cause substantial competitive harm if disclosed. Moreover, this data is reported as a range within a sub-basin and not for individual wells, which further diminishes any possible sensitivity. Because this information is publicly available, and also is reported as an average for the sub-basin category, the EPA proposes that this data be not confidential and considered non-CBI.
14 98.236c8iiE | Wells with oil production greater than or equal to 10 barrels per day, using Calculation Methodology 3 and 4 of 40 CFR 98.233(j), where the following by sub-basin category are reported: Count of hydrocarbon tanks on well pads | Information on the count of atmospheric storage tanks with a throughput above 500 barrels of oil per day is already publicly available in Title V permits under EPA's National Emission Standards for Hazardous Air Pollutants (NESHAP) Subpart HH ¹⁰ for Oil and Gas Production. Further, knowledge of whether the tanks are located on a well-pad or off a well-pad does not provide any insight into the operational characteristics of the facility. Nor does it provide insight into sensitive or proprietary information about a facility, but rather identifies the industry segment under subpart W to which the tanks belong. The EPA proposes that this data be not confidential and considered non-CBI.
15 98.236c5iE | Well venting for liquids unloading, for Calculation Methodology 1, where the following by each tubing diameter group and pressure group combination within each sub-basin category are reported: Average casing diameter or internal tubing diameter, where applicable | The well casing diameter is the diameter of the pipe inserted into a recently drilled section of a borehole during the well drilling process. Data on well casing diameter are publicly available from vendors of casing pipes. Further, information about well casing diameter does not provide insight into the performance or the operational efficiency for onshore petroleum and natural gas production facilities that would likely cause substantial competitive harm if disclosed. Moreover, facilities report this information for one well used to represent the remaining wells in a group. This data element is not necessarily the same for other wells in the same tubing size and pressure group combination and therefore, does not reveal sufficient data to characterize the operations of a particular business or compromise any of its business advantages. Thus, the sensitivity of these data elements is further diminished. Because this information is publicly available and also is reported as an average for a group of wells, the EPA proposes that this data be not confidential and considered non-CBI.
16 98.236c5iE | Well venting for liquids unloading, for Calculation Methodology 1, where the following by each tubing diameter group and pressure group combination within each sub-basin category are reported: Well depth of each well selected to represent emissions in that tubing size and pressure combination | The well depth is the depth of a hydrocarbon well. Data on well depth is publicly available from State Oil and Gas Commission websites and through commercial databases available to the public for purchase.⁷ Information about well depth does not provide insight into the performance or the operational efficiency of onshore petroleum and natural gas production facilities that would likely cause substantial competitive harm if disclosed. Moreover, facilities report this information for one well used to represent the remaining wells in a group. This data element is not necessarily the same for other wells in the same tubing size and pressure group combination and therefore, does not reveal sufficient data to characterize the operations of a particular business or compromise any of its business advantages. Thus, the sensitivity of this data element is further diminished. Because this information is publicly available, and also is reported as representative of wells in the same group, the EPA proposes that this data be not confidential and considered non-CBI.
17 98.236c5iF | Well venting for liquids unloading, for Calculation Methodology 1, where the following by each tubing diameter group and pressure group combination within each sub-basin category are reported: Casing pressure of each well selected to represent emissions in that tubing size group and pressure group combination that does not have a plunger lift, pounds per square inch (psia) | The casing pressure refers to the pressure of the casing of a hydrocarbon well. Data on casing pressure is publicly available from State Oil and Gas Commission websites and through commercial databases available to the public for purchase.⁷ Information about casing pressure does not provide insight into the performance or the operational efficiency for onshore petroleum and natural gas production facilities that would likely cause substantial competitive harm if disclosed. Moreover, facilities report this information for one well used to represent the remaining wells in a group. This data element is not necessarily the same for other wells in the same tubing size and pressure group combination and therefore does not reveal sufficient data to characterize the operations of a particular business or compromise its business advantage. Thus, the sensitivity of this data element is further diminished. Because this information is publicly available and also is reported as a representative number in a sub-basin, the EPA proposes that this data be not confidential and considered non-CBI.
18 98.236c5iG | Well venting for liquids unloading, for Calculation Methodology 1, where the following by each tubing diameter group and pressure group combination within each sub-basin category are reported: Tubing pressure of each well selected to represent emissions in a tubing size group and pressure group combination that has a plunger lift (psia) | Data on tubing pressure is publicly available from State Oil and Gas Commission websites and through commercial databases available to the public for purchase.⁷ Information about tubing pressure does not provide insight into the performance or the operational efficiency for onshore petroleum and natural gas production facilities that would likely cause substantial competitive harm if disclosed. Moreover, facilities report this information for one well used to represent the remaining wells in a group. This data element is not necessarily the same for other wells in the same tubing size and pressure group combination and therefore does not reveal sufficient data to characterize the operations of a particular business or compromise any of its business advantages. Thus, the sensitivity of this data element is further diminished. Because this information is publicly available, the EPA proposes that this data be not confidential and considered non-CBI.
19 98.236c5iiD | Well venting for liquids unloading, for Calculation Methodologies 2 and 3, where the following for each sub-basin category are reported: Average internal casing diameter, in inches, of each well, where applicable | The well casing diameter is the diameter of the pipe inserted into a recently drilled section of a borehole during the well drilling process. Data on well casing diameter are publicly available from vendors of casing pipes. Information about well casing diameter does not provide insight into the performance or the operational efficiency of onshore petroleum and natural gas production facilities that would likely cause substantial competitive harm if disclosed. Because this information is publicly available and also is reported as an average for each sub-basin category, the EPA proposes that this data be not confidential and considered non-CBI.
20 98.236c13iA | Each centrifugal compressor with wet seals in operational mode, where the following for each degassing vent are reported: Number of wet seals connected to the degassing vent | Wet seals form the barrier that keeps gas from seeping through the gap between the compressor shaft and the compressor casing. Information about the number of wet seals connected to the degassing vent of a centrifugal compressor does not provide valuable insight into the performance or the operational efficiency of the reporting facility, but rather provides insight into the characteristics of a piece of equipment. Overall, the number of wet seals that are connected to a degassing vent is more a matter of operational convenience and does not reveal any process related information. The EPA proposes that this data element not be confidential and considered non-CBI.
21 98.236c16i | Local distribution companies: Number of above grade T-D transfer stations in the facility | The number of above grade transmission-distribution (T-D) transfer stations is the number of stations where gas is transferred from a transmission pipeline to a distribution pipeline in a natural gas distribution facility. A larger number of T-D transfer stations could suggest that a larger quantity of gas is transferred into the LDC distribution network, however, this is not a definite or direct correlation. The amount of gas transferred can vary drastically depending on the operations of a local distribution company (LDC). Therefore, information about the number of above grade T-D transfer stations does not provide direct insight into the performance or the operational efficiency for LDCs. Moreover, even if throughput data could be inferred from the number of T-D transfer stations, the throughput data is already publicly available by company and state through EIA¹¹, therefore further diminishing its sensitivity. The EPA is proposing that this data be not confidential and considered non-CBI.
22 98.236c16iv | Local distribution companies: Report total number of below grade T-D transfer stations in the facility | The number of below grade transmission-distribution (T-D) transfer stations is the number of stations located underground where gas is transferred from a transmission pipeline to a distribution pipeline in a natural gas distribution facility. A larger number of T-D transfer stations could suggest that a larger quantity of gas is transferred into the local distribution company (LDC) distribution network, however, this is not a definite or direct correlation. The amount of gas transferred can vary drastically depending on the operations of a LDC. Therefore, information about the number of below grade T-D transfer stations does not provide direct insight into the performance or the operational efficiency for LDCs. Moreover, even if throughput data could be inferred from the number of T-D transfer stations, the throughput data is already publicly available by company and state through EIA,¹² therefore further diminishing its sensitivity. The EPA is proposing that this data be not confidential and considered non-CBI.
23 98.236c16v | Local distribution companies: Report total number of above grade metering-regulating stations (which includes above grade T-D transfer stations) in the facility | The number of above grade metering-regulating stations is the number of stations located above ground where gas is metered, pressure regulated, or both, in a natural gas distribution facility. This count includes the number of above grade T-D transfer stations, where gas is transferred from a transmission pipeline to a distribution pipeline in a natural gas distribution facility. A larger number of metering-regulating stations could suggest that a larger quantity of gas is transferred into the LDC distribution network, however, this is not a definite or direct correlation. The amount of gas transferred can vary drastically depending on the operations of a local distribution company (LDC). Therefore, information about the number of above grade metering-regulating stations does not provide direct insight into the performance or the operational efficiency for LDCs. Moreover, even if throughput data could be inferred from the number of metering-regulating stations, the throughput data is already publicly available by company and state through EIA,¹³ therefore further diminishing its sensitivity. The EPA is proposing that this data be not confidential and considered non-CBI.
24 98.236c16vi | Local distribution companies: Report total number of below grade metering-regulating stations (which includes below grade T-D transfer stations) in the facility | The number of below grade metering-regulating stations is the number of stations located below ground where gas is metered, pressure regulated, or both, in a natural gas distribution facility. This count includes the number of below grade T-D transfer stations, where gas is transferred from a transmission pipeline to a distribution pipeline in a natural gas distribution facility. A larger number of metering-regulating stations could suggest that a larger quantity of gas is transferred into the LDC distribution network, however, this is not a definite or direct correlation. The amount of gas transferred can vary drastically depending on the operations of a local distribution company (LDC). Therefore, information about the number of below grade metering-regulating stations does not provide direct insight into the performance or the operational efficiency for LDCs. Moreover, even if throughput data could be inferred from the number of metering-regulating stations, the throughput data is already publicly available by company and state through EIA,¹⁴ therefore further diminishing its sensitivity. The EPA is proposing that this data be not confidential and considered non-CBI.
25 98.236c17i | Each EOR injection pump blowdown: Pump capacity (barrels per day) | Pump capacity, which will be reported by EOR operations in the onshore production segment only, can be estimated from the quantity of CO2 injected, because the pump capacity is proportional to the volume of CO2 that the pump is pumping (i.e., the volume of CO2e reported). Therefore, if the volume of CO2 that was pumped is known, then the pump's capacity can be estimated to be between 150 to 200 percent greater than the reported volume, to handle fluctuations in CO2 loads. The quantity of CO2 injected can be determined from Underground Injection Control (UIC) permits, which are issued for each injection well by the EPA or by states that have primary enforcement authority for permitting injection wells. Information related to UIC permits is reported to the EPA or states at least annually and made available to the public either through state websites or upon request from the public. Finally, knowing the pump capacity does not result in any competitive disadvantage to the reporter, because the injection volume of the pump, which is related to throughput of the pump, is publicly available through the EPA's UIC program. The EPA proposes that the subpart W pump capacity data element not be treated as confidential, because it can be estimated using publicly available data, to a level of accuracy that substantially diminishes the potential harm of releasing this data. Although a competitor can use this information to estimate injection or oil production volumes, such information is already publicly available. The EPA is proposing that this data be not confidential; and considered non-CBI.
26 98.236c19i | Onshore petroleum and natural gas production and natural gas distribution combustion emissions: Cumulative number of external fuel combustion units with a rated heat capacity equal to or less than 5 mmBtu/hr, by type of unit | The number of external combustion units with heat input capacities equal to or less than 5mmBtu/hour reveals nothing about the productivity of a business's operation (e.g., capacity information). Information about the cumulative number of external fuel combustion units with specified heat capacities does not provide insight into the performance or the operational efficiency for a facility that would likely cause substantial competitive harm if disclosed. Furthermore, technical specifications and operational details, such as hours of operation, are not revealed through this data element and hence cannot be used to determine throughput from each compressor. Moreover, throughput data for each facility is publicly available.⁷ Thus, this data element does not compromise confidential business information that will harm the business' competitive advantage, because the information that is revealed by this data element is already publicly available. The EPA is proposing that this data be not confidential and considered non-CBI.
27 98.236c19ii | Onshore petroleum and natural gas production and natural gas distribution combustion emissions: Cumulative number of external fuel combustion units with a rated heat capacity larger than 5 mmBtu/hr, by type of unit | The number of external combustion units with heat input capacities greater than 5mmBtu/hour reveals nothing about the productivity of a business's operation (e.g., capacity information). Information about the cumulative number of external fuel combustion units with specified heat capacities does not provide insight into the performance or the operational efficiency for a facility that would likely cause substantial competitive harm if disclosed. Furthermore, technical specifications and operational details, such as hours of operation, are not revealed through these data elements and hence cannot be used to determine throughput from each compressor. Moreover, throughput data for each facility is already publicly available.⁷ Thus, this data element does not compromise confidential business information that will harm the business's competitive advantage, because the information that is revealed by this data element is already publicly available. The EPA is proposing that this data be not confidential and considered non-CBI.
28 98.236c19v | Onshore petroleum and natural gas production and natural gas distribution combustion emissions: Cumulative number of internal fuel combustion units, not compressor-drivers, with a rated heat capacity equal to or less than 1 mmBtu/hr or 130 horse power, by type of unit | The number of internal combustion units (other than compressor drivers) with a rated heat input capacity of 1 mmBtu/hour or less (130 HP) reveals nothing about the productivity of a business's operation (e.g., capacity information). Information about the cumulative number of internal fuel combustion units with specified heat capacities does not provide insight into the performance or the operational efficiency for a facility that would likely cause substantial competitive harm if disclosed. Furthermore, technical specifications and operational details, such as hours of operation, are not revealed through this data element and hence cannot be used to determine throughput from each compressor. Moreover, throughput data for each facility is already available in the public domain ⁷. Thus, this data element does not compromise confidential business information that will harm the business's competitive advantage, because the information that is revealed by this data element is already publicly available. The EPA is proposing that this data be not confidential and considered non-CBI.

² http://ecfr.gpoaccess.gov/cgi/t/text/text-idx?c=ecfr&sid=3751089d31ea79d2273ed12c4f723ba9&rgn=div6&view=text&node=40:10.0.1.1.1.8&idno=40.

³ http://ecfr.gpoaccess.gov/cgi/t/text/text-idx?c=ecfr&sid=3751089d31ea79d2273ed12c4f723ba9&rgn=div6&view=text&node=40:10.0.1.1.1.8&idno=40.

⁴ http://ecfr.gpoaccess.gov/cgi/t/text/text-idx?c=ecfr&sid=3751089d31ea79d2273ed12c4f723ba9&rgn=div6&view=text&node=40:10.0.1.1.1.8&idno=40.

⁵ http://ecfr.gpoaccess.gov/cgi/t/text/text-idx?c=ecfr&sid=3751089d31ea79d2273ed12c4f723ba9&rgn=div6&view=text&node=40:10.0.1.1.1.8&idno=40.

⁶ http://www.eia.gov/dnav/ng/ng_prod_wells_s1_a.htm.

⁷ http://www.didesktop.com/products/.

⁸ http://www.eia.gov/dnav/ng/ng_prod_wells_s1_a.htm.

⁹ http://www.didesktop.com/products/.

¹⁰ http://ecfr.gpoaccess.gov/cgi/t/text/text-idx?c=ecfr&sid=3751089d31ea79d2273ed12c4f723ba9&rgn=div6&view=text&node=40:10.0.1.1.1.8&idno=40.

¹¹ http://www.eia.gov/cfapps/ngqs/ngqs.cfm?f_report=RP1.

¹² http://www.eia.gov/cfapps/ngqs/ngqs.cfm?f_report=RP1.

¹³ http://www.eia.gov/cfapps/ngqs/ngqs.cfm?f_report=RP1.

¹⁴ http://www.eia.gov/cfapps/ngqs/ngqs.cfm?f_report=RP1.

The EPA is proposing to assign 38 subpart W data elements to the “Unit/process Operating Characteristics that Are Not Inputs to Emission Equations” data category, because they are characteristics of equipment, such as wells and plunger lifts, abatement devices, and other facility-specific characteristics that vary over time with changes in operations and processes (and are not inputs to emission equations). Some of these elements are part of extension requests for the use of BAMM and generally relate to the reasons for a request and expected dates of compliance with regular reporting requirements. The remaining data elements are part of the annual GHG report for 40 CFR part 98, subpart W. All of the 38 data elements are listed below. Of the 38 data elements, elements 1 thru 37 are proposed as non-CBI, while data element 38 is proposed to be CBI, as explained in Table 4 of this preamble:

Table 4—Data Elements Proposed to be Assigned to the “Unit/Process Operating Characteristics That are Not Inputs to Emission Equations” Data Category
Citation | Data element | Proposed rationale
1 98.236c4iiB | All glycol dehydrator with throughput less than 0.4 MMscfd: Which vent gas controls are used | A glycol dehydration unit is a process unit that separates liquids from a natural gas stream using diethylene glycol (DEG) or triethylene glycol (TEG). Information on the types of vent gas controls used for glycol dehydrators does not provide insight into the facility's performance or operational efficiency that would likely result in substantial competitive harm if disclosed. Furthermore, information about the types of vent gas controls typically used at petroleum and natural gas facilities is publicly available through EPA's Natural Gas Star Program technology fact sheets. The EPA is proposing that this data element is not confidential; and that it will be considered non-CBI.
2 98.236c5iB | Well venting for liquids unloading, for Calculation Methodology 1, where the following by each tubing diameter group and pressure group combination within each sub-basin category are reported: Whether the selected well from the tubing diameter and pressure group combination had a plunger lift (yes/no) | A plunger lift system is an artificial liquid lift mechanism that includes a plunger (tubular steel structure with valves) that rests at the bottom of a wellbore on a spring loaded base. As gas is produced through the natural gas well, liquids accumulate on top of the plunger and gradually reduce the flow rate of natural gas. To expel the liquids from the well, the well is shut-in, at which point the casing pressure builds up and pushes the plunger to the surface preceded by the liquids in the wellbore. Information on whether or not such artificial lift systems are being used for a given well would not provide insight into the performance or the operational efficiency of the facility because knowing those operational characteristics of a facility would not result in compromising a reporter's competitive advantage. Furthermore, the production and throughput data are already publicly available.¹⁵ The EPA is proposing that this data element is not confidential; and that it will be considered non-CBI.
3 98.236c5iB | Well venting for liquids unloading, for Calculation Methodology 1, where the following by each tubing diameter group and pressure group combination within each sub-basin category are reported: Count of plunger lifts | A plunger lift system is an artificial liquid lift mechanism that includes a plunger (tubular steel structure with valves) that rests at the bottom of a wellbore on a spring loaded base. As gas is produced through the natural gas well, liquids accumulate on top of the plunger and gradually reduce the flow rate of natural gas. To expel the liquids from the well, the well is shut-in, at which point the casing pressure builds up and pushes the plunger to the surface preceded by the liquids in the wellbore. Information on the count of plunger lifts at a sub-basin level for a given facility does not reveal any sensitive information at a facility and would likely not cause competitive harm if disclosed. The EPA is proposing that this data element is not confidential; and that it will be considered non-CBI.
4 98.236c5iA | Well venting for liquids unloading, for Calculation Methodology 1, report the following by each tubing diameter group and pressure group combination within each sub-basin category are reported: Count of wells vented to the atmosphere for liquids unloading | Liquid unloading is conducted in mature gas wells that have an accumulation of liquids that impedes the steady flow of natural gas. This is a common occurrence in reservoirs where the pressure is depleted and liquids enter the wellbore. Information on the number of wells vented to the atmosphere for the purposes of unloading liquids or the frequency of the unloadings does not provide insight into sensitive or proprietary information about a facility, but rather may give a sense of the relative vintage of the well and about production rates for a given well, which are already publicly available through state oil and gas commissions and commercial databases.¹⁶ Hence, information on the count of wells vented to the atmosphere for liquids unloading does not reveal any sensitive information at a facility and would likely not cause competitive harm if disclosed. The EPA is proposing that this data element is not confidential; and that it will be considered non-CBI.
5 98.236c5iC | Well venting for liquids unloading, for Calculation Methodology 1, report the following by each tubing diameter group and pressure group combination within each sub-basin category are reported: Cumulative number of unloadings vented to the atmosphere | Liquid unloading is conducted in mature gas wells that have an accumulation of liquids that impedes the steady flow of natural gas. This is a common occurrence in reservoirs where the pressure is depleted and liquids enter the wellbore. Information on the number of wells vented to the atmosphere for the purposes of unloading liquids or the frequency of the unloadings does not provide insight into sensitive or proprietary information about a facility, but rather may give a sense of the relative vintage of the well and about production rates for a given well, which are already publicly available through state oil and gas commissions and commercial databases ¹⁶. Hence, information on the count of wells vented to the atmosphere for liquids unloading does not reveal any sensitive information at a facility and would likely not cause competitive harm if disclosed. The EPA is proposing that this data element is not confidential; and that it will be considered non-CBI.
6 98.236c5iiA | Well venting for liquids unloading, for Calculation Methodologies 2 and 3, report the following for each sub-basin category are reported: Count of wells vented to the atmosphere for liquids unloading | Liquid unloading is conducted in mature gas wells that have an accumulation of liquids which impedes the steady flow of natural gas. This is a common occurrence in reservoirs where the pressure is depleted and liquids enter the wellbore. Information on the number of wells vented to the atmosphere for the purposes of unloading liquids or the frequency of the unloadings does not provide insight into sensitive or proprietary information about a facility, but rather may give a sense of the relative vintage of the well and about production rates for a given well, which are already publicly available through state oil and gas commissions and commercial databases.¹⁶. Hence, information on the count of wells vented to the atmosphere for liquids unloading does not reveal any sensitive information at a facility and would likely not cause competitive harm if disclosed. The EPA is proposing that this data element is not confidential; and that it will be considered non-CBI.
7 98.236c5iiB | Well venting for liquids unloading, for Calculation Methodologies 2 and 3, where the following by each tubing diameter group and pressure group combination within each sub-basin category are reported: Count of plunger lifts | A plunger lift systems is an artificial liquid lift mechanism that includes a plunger (tubular steel structure with valves) that rests at the bottom of a wellbore on a spring loaded base. As gas is produced through the natural gas well, liquids accumulate on top of the plunger and gradually reduce the flow rate of natural gas. To expel the liquids from the well, the well is shut-in, at which point the casing pressure builds up and pushes the plunger to the surface preceded by the liquids in the wellbore. Information on the count of plunger lifts at a sub-basin level for a given facility does not reveal any sensitive information at a facility and would likely not cause competitive harm if disclosed. The EPA is proposing that this data element is not confidential; and that it will be considered non-CBI.
8 98.236c6iA | Gas well completions with hydraulic fracturing, report the following for each sub-basin and well type (horizontal or vertical) combination: Total count of completions in calendar year | The term “well completions” commonly refers to the process of cleaning the wellbore of drill cuttings, cutting fluids, and proppants (when a well is hydraulically fractured) after the well has been drilled. Information on the number of completions performed by an oil and gas operator in a given year is available publicly on state oil and gas commission Web sites, commercial oil and gas databases,¹⁷ and also is available publicly through the EIA. Therefore, the EPA is proposing that this data element is not confidential; and that it will be considered non-CBI.
9 98.236c6iG | Gas well completions with hydraulic fracturing, where the following for each sub-basin and well type (horizontal or vertical) combination are reported: Number of completions employing purposely designed equipment that separates natural gas from the backflow | The term “well completions” commonly refers to the process of cleaning the wellbore of drill cuttings, cutting fluids, and proppants (when a well is hydraulically fractured) after the well has been drilled. Hydraulically fractured wells result in significantly higher backflow gas in comparison to conventional wells without hydraulic fracturing. Completions on a subset of the hydraulically fractured wells may be performed using purposely designed equipment that separates natural gas from the backflow, generally referred to as reduced emission completions. Information on the number of completions performed by an oil and gas operator in a given year is available publicly on state oil and gas commission Web sites, and also is available publicly through the EIA. The amount of estimated emissions resulting from well completions and workovers with hydraulic fracturing employing purposely designed equipment that separates natural gas from the backflow is publicly available in the National Inventory. The disclosure of the number of completions employing purposely designed equipment that separates natural gas from the backflow is not likely to cause substantial competitive harm because throughput data are already publicly available through the EIA.¹⁸ Therefore, the EPA is proposing that this data element is not confidential; and that it will be considered non-CBI.
10 98.236c6iC | Gas well workovers with hydraulic fracturing, report the following for each sub-basin and well type (horizontal or vertical) combination: Total count of workovers in calendar year that flare gas or vent gas to the atmosphere | As natural gas wells mature, the production from the well decreases. Often such mature wells are hydraulically fractured to increase production and the wells are re-completed. Information on the number of workovers performed nationally in a given year is available through the U.S. National Inventory. Knowing that wells are being worked over can only give a sense of the relative vintage of the well and increase in production rates. However, the information on age and production throughput is available through oil and gas commissions and commercial databases as well as the EIA.¹⁹ Hence, information on the count of wells that undergo workovers does not reveal any sensitive information at a facility and would likely not cause competitive harm if disclosed. The EPA is proposing that this data element is not confidential; and that it will be considered non-CBI.
11 98.236c6iH | Gas well workovers with hydraulic fracturing, where the following for each sub-basin and well type (horizontal or vertical) combination are reported: Number of workovers employing purposely designed equipment that separates natural gas from the backflow | As natural gas wells mature, the production from the well decreases. Often such mature wells are hydraulically fractured to increase production and the wells are re-completed. Information on the number of workovers performed by oil and gas operators in a given year is available publicly through the U.S. National Inventory. The amount of estimated emissions resulting from well completions and workovers with hydraulic fracturing employing purposely designed equipment that separates natural gas from the backflow is publicly available in the National Inventory. The amount of natural gas captured through reduced emission completions from well workovers gives a sense of the mitigation of GHGs and increase in throughput, i.e. gas production. However, throughput information is already available through oil and gas commission Web sites and commercial oil and gas databases as well as the EIA.²⁰ Therefore, the disclosure of the information on the number of workovers employing purposely-designed equipment that separates natural gas from the backflow is not likely to cause substantial competitive harm. The EPA is proposing that this data element is not confidential; and that it will be considered non-CBI.
12 98.236c6iiC | Gas well completions and workovers without hydraulic fracturing: Total number of days of gas venting to the atmosphere during backflow for completion | The term “well completions” commonly refers to the process of cleaning the wellbore of drill cuttings, cutting fluids, and proppants (when well is hydraulically fractured) after the well has been drilled. Information on the number of completions performed by an oil and gas operator in a given year is available publicly on state oil and gas commission Web sites, and through the EIA. Furthermore, the disclosure of information on the total number of days of gas venting to the atmosphere during backflow for completion is not likely to cause substantial competitive harm because it does not reveal sensitive or proprietary information about the facility. Therefore, the disclosure of the information on the number of days of backflow during completions is not likely to cause substantial competitive harm. The EPA is proposing that this data element is not confidential; and that it will be considered non-CBI.
13 98.236c7iA | For blowdown vent stack emission source, for each unique physical volume that is blown down more than once during the calendar year: Total number of blowdowns for each unique physical volume in the calendar year (when using Eq. W-14B) | When equipment is taken out of service either to be placed in standby or for maintenance purposes, the natural gas in the equipment is typically released to the atmosphere. Such a practice is called blowdown. Blowdowns in a facility, unless for planned maintenance, are usually un-planned events. The number of blowdowns does not provide any process specific information, such as how long the equipment has been operating or at what efficiency. Hence, the disclosure of the information on the number of blowdowns is not likely to cause substantial competitive harm. The EPA is proposing that this data element is not confidential; and that it will be considered non-CBI.
14 98.236c7iiA | For blowdown vent stack emission source, for all unique volumes that are blown down once during the calendar year: Total number of blowdowns for all unique physical volumes in the calendar year | When equipment is taken out of service either to be placed in standby or for maintenance purposes, the natural gas in the equipment is typically released to the atmosphere. Such a practice is called blowdown. Blowdowns in a facility, unless for planned maintenance, are usually un-planned events. The number of blowdowns does not provide any process specific information, such as how long the equipment has been operating or at what efficiency. Hence, the disclosure of the information on the number of blowdowns is not likely to cause substantial competitive harm. The EPA is proposing that this data element is not confidential; and that it will be considered non-CBI.
15 98.236c8iB | Wellhead gas-liquid separator with oil throughput greater than or equal to 10 barrels per day, using Calculation Methodology 1 and 2 of 40 CFR 98.233(j), reported by sub-basin category: Estimated average separator temperature (degrees Fahrenheit) (when using methodology 1) | Separators are used to separate hydrocarbons into liquid and gas phases. Separators are typically connected to atmospheric storage tanks (hydrocarbon tanks) where hydrocarbon liquids are stored. Characteristics of the separator, such as temperature and pressure, may vary widely and are dependant on the particular characteristics of the oil entering the separator. Information about the temperature of the separator does not provide insight into the performance or the operational efficiency of the separator that would likely cause substantial competitive harm if disclosed, because general information about throughput, which may be inferred when combined with other information, about this equipment is already publicly available. Furthermore, this data element is reported as an average value from a sub-basin, and is not reported for each piece of equipment, further diminishing any sensitivity related to disclosure of this data element. The EPA is proposing that this data element is not confidential; and that it will be considered non-CBI.
16 98.236c8iB | Wellhead gas-liquid separator with oil throughput greater than or equal to 10 barrels per day, using Calculation Methodology 1 and 2 of 40 CFR 98.233(j), reported by sub-basin category: Estimated average separator temperature (degrees Fahrenheit) (when using methodology 2) | Separators are used to separate hydrocarbons into liquid and gas phases. Separators are typically connected to atmospheric storage tanks (hydrocarbon tanks) where hydrocarbon liquids are stored. Characteristics of the separator, such as temperature and pressure, may vary widely and are dependent on the particular characteristics of the oil entering the separator. Information about the temperature of the separator does not provide insight into the performance or the operational efficiency of the separator that would likely cause substantial competitive harm if disclosed, because general information about throughput, which may be inferred when combined with other information about this equipment that is already publicly available. Furthermore, this data element is reported as an average value from a sub-basin, and is not reported for each piece of equipment, therefore, further diminishing any sensitivity related to disclosure of this data element. The EPA is proposing that this data element is not confidential; and that it will be considered non-CBI.
17 98.236c8iB | Wellhead gas-liquid separator with oil throughput greater than or equal to 10 barrels per day, using Calculation Methodology 1 and 2 of 40 CFR 98.233(j), reported by sub-basin category: Estimated average pressure (psig) (when using methodology 1) | Separators are used to separate hydrocarbons into liquid and gas phases. Separators are typically connected to atmospheric storage tanks (hydrocarbon tanks) where hydrocarbon liquids are stored. Characteristics of the separator, such as temperature and pressure, may vary widely and are dependent on the particular characteristics of the oil entering the separator. Information about the pressure of the separator does not provide insight into the performance or the operational efficiency of the separator that would likely cause substantial competitive harm if disclosed, because general information about throughput, which may be inferred when combined with other information about this equipment that is already publicly available. Furthermore, this data element is reported as an average value from a sub-basin, and is not reported for each piece of equipment, further diminishing any sensitivity related to disclosure of this data element. The EPA is proposing that this data element is not confidential; and that it will be considered non-CBI.
18 98.236c8iB | Wellhead gas-liquid separator with oil throughput greater than or equal to 10 barrels per day, using Calculation Methodology 1 and 2 of 40 CFR 98.233(j), reported by sub-basin category: Estimated average pressure (psig) (when using methodology 2) | Separators are used to separate hydrocarbons into liquid and gas phases. Separators are typically connected to atmospheric storage tanks (hydrocarbon tanks) where hydrocarbon liquids are stored. Characteristics of the separator, such as temperature and pressure, may vary widely and are dependent on the particular characteristics of the oil entering the separator. Information about the pressure of the separator does not provide insight into the performance or the operational efficiency of the separator that would likely cause substantial competitive harm if disclosed, because general information about throughput, which may be inferred when combined with other information about this equipment that is already publicly available. Furthermore, this data element is reported as an average value from a sub-basin, and is not reported for each piece of equipment, further diminishing any sensitivity related to disclosure of this data element. The EPA is proposing that this data element is not confidential; and that it will be considered non-CBI.
19 98.236c8ivA | If wellhead separator dump valve is functioning improperly during the calendar year: Count of wellhead separators that dump valve factor is applied | Separators are used to separate hydrocarbons into liquid and gas phases. Separators are typically connected to atmospheric storage tanks (hydrocarbon tanks) where hydrocarbon liquids are stored. Dump valves on separators are used to periodically dump liquids in the separator into a liquids pipeline. Malfunctioning dump valves are a function of the maintenance of the separator. Information on dump valves, such as the count of separators for which the dump valves were improperly functioning during the calendar year, would not provide meaningful insight into proprietary or sensitive information at a facility and would likely not cause competitive harm if disclosed. The EPA is proposing that this data element is not confidential; and that it will be considered non-CBI.
20 98.236c10i | Well testing venting and flaring: Number of wells tested per basin in calendar year | Well testing venting and flaring refers to the process by which an owner or operator vents or flares natural gas at the time the production rate of a well is determined for regulatory, commercial, or technical purposes. Venting and flaring done immediately after a well completion is included in the well completion emissions and not under the well testing venting and flaring emissions source. The EPA is proposing that the disclosure of this data be non-confidential, because the disclosure of this data likely would not cause substantial competitive harm. The data is reported at a basin level as opposed to a field or sub-basin level, which is at a much greater level of granularity. Furthermore, reporting the number of wells tested in a basin for a given year does not provide any insight on exactly which wells within that basin were tested, thereby diminishing the sensitivity associated with disclosure of this data. Lastly, the data reported does not include the production rate of the tested well, thereby further diminishing the sensitivity with disclosure of this data. The EPA is proposing that this data element is not confidential; and that it will be considered non-CBI.
21 98.236c10ii | Well testing venting and flaring: Average gas to oil ratio for each basin | Well testing venting and flaring refers to the process by which an owner or operator vents or flares natural gas at the time the production rate of a well is determined for regulatory, commercial, or technical purposes. Venting and flaring done immediately after a well completion is included in the well completion emissions and not under the well testing venting and flaring emissions source. Disclosure of the average gas to oil ratio of wells tested within a basin is not likely to cause substantial competitive harm because information on the gas to oil ratio for wells can be determined through publicly available information through many state agencies (e.g., the Railroad Commission of Texas lists the gas to oil ratio in their “Gas Master” and “Oil Master” publications). Furthermore, this data element is reported as an average ratio at a basin level and is not reported on a per well basis, further diminishing sensitivity associated with disclosure of this data. The EPA is proposing that this data element is not confidential; and that it will be considered non-CBI.
22 98.236c10iii | Well testing venting and flaring: Average number of days the well is tested in a basin | Well testing venting and flaring refers to the process by which an owner or operator vents or flares natural gas at the time the production rate of a well is determined for regulatory, commercial, or technical purposes. Venting and flaring done immediately after a well completion is included in the well completion emissions and not under the well testing venting and flaring emissions source. Disclosure of the average number of days the well is tested in a basin is not likely to cause substantial harm, because reporters are reporting an average for all of the wells tested within a basin rather than reporting for the number of data days of well testing for individual wells. Furthermore, the number of days a well is tested in a basin is not likely to provide any insight into proprietary or sensitive information at a facility and would likely not cause competitive harm if disclosed. The EPA is proposing that this data element is not confidential; and that it will be considered non-CBI.
23 98.236c11ii | Associated natural gas venting and flaring for each basin: Average gas to oil ratio for each basin | Disclosure of the average gas to oil ratio of wells tested within a basin is not likely to cause substantial competitive harm, because information on the gas to oil ratio for wells can be determined through publicly available information through many state agencies (e.g., the Railroad Commission of Texas lists the gas to oil ration in their “Gas Master” and “Oil Master” publications). Gas to oil ratios can generally be determined from the ratio of the volume of gas that comes out of solution to the volume of oil produced at specified conditions. Furthermore, this data element is reported as an average ratio at a basin level and is not reported on a per well basis, thus further diminishing sensitivity associated with disclosure. The EPA is proposing that this data element is not confidential; and that it will be considered non-CBI.
24 98.236c11i | For associated natural gas venting and flaring for each basin: Number of wells venting or flaring associated natural gas in a calendar year | Associated natural gas is vented or flared when it is not being captured for sales. This information can be used to determine the crude oil production from the facility. However, because production information is already available through state oil and gas commissions and commercial oil and gas databases, including the EIA,²¹ the EPA is proposing that this data element is not confidential; and that it will be considered non-CBI.
25 98.236c12iii | Flare stacks: Percent of gas sent to un-lit flare determined by engineering estimate and process knowledge based on best available data and operating records | The EIA published emissions information on vents and flares in an Emissions Study which is available to the public.²² In addition, the Bureau of Energy Management and Regulatory Enforcement (BOEMRE) collects information on flare and vent stack emissions through 30 CFR 250.1163(a),²³ for which information is made publicly available through the offshore platform studies. Hence, the EPA is proposing that this data element is not confidential; and that it will be considered non-CBI.
26 98.236c15iB | For each component type (major equipment type for onshore production) that uses emission factors for estimating emissions (refer to 40 CFR 98.233(q) and (r)): Equipment leaks found in each leak survey: For Onshore natural gas processing; range of concentrations of CO2 (refer to Equation W-30 of 40 CFR 98.233) | The typical composition of natural gas in processing plants upstream of the dew point control is similar to that of production quality gas. Production quality gas information is available through databases from Gas Technology Institute ²⁴ and Department of Energy Gas Information System (GASIS) Database ²⁵ both of which are publicly available. Furthermore, the composition of natural gas downstream of the dew point control is typically similar to transmission quality gas. Transmission pipeline companies continuously monitor their gas composition and publish gas composition data on their Web sites. Also, the composition of gas varies throughout the year. Hence, the disclosure of the range of concentrations of individual components is not likely to cause substantial competitive harm. Therefore, the EPA is proposing that this data element is not confidential; and that it will be considered non-CBI.
27 98.236c15iB | For each component type (major equipment type for onshore production) that uses emission factors for estimating emissions (refer to 40 CFR 98.233(q) and (r)): Equipment leaks found in each leak survey: For Onshore natural gas processing; range of concentrations of CH4 (refer to Equation W-30 of 40 CFR 98.233) | The typical composition of natural gas in processing plants upstream of the dew point control is similar to that of production quality gas. Production quality gas information is available through databases from Gas Technology Institute ²⁶ and Department of Energy GASIS Database ²⁷ both of which are publicly available. Furthermore, the composition of natural gas downstream of the dew point control is typically similar to transmission quality gas. Transmission pipeline companies continuously monitor their gas composition and publish gas composition data on their websites. Also, the composition of gas varies throughout the year. Hence, the disclosure of the range of concentrations of individual components is not likely to cause substantial competitive harm. Therefore, the EPA is proposing that this data element is not confidential; and that it will be considered non-CBI.
28 98.236c15iA | For each component type (major equipment type for onshore production) that uses emission factors for estimating emissions (refer to 40 CFR 98.233(q) and (r)): Total count of leaks found in each complete survey listed by date of survey and each type of leak source for which there is a leaker emission factor in Tables W-2, W-3, W-4, W-5, W-6, and W-7 of this subpart | The term “equipment leaks” refers to those emissions which could not reasonably pass through a stack, chimney, vent, or other functionally-equivalent opening. Leaking components at a facility may have a correlation to the level of maintenance at a facility. However, there is no direct correlation between the level of maintenance and process efficiency, i.e. a higher number of leaks in one facility do not indicate that the processes have been running longer or more frequently than those processes at another facility that has a lower number of leaks. Furthermore, Department of Transportation and Federal Energy Regulatory Commission (FERC) regulations require natural gas distribution companies and transmission pipeline companies, respectively, to conduct periodic leak detection and fix any leaking equipment. The number of leaks detected and fixed are classified and reported to the DOT and is publicly available. Finally, 40 CFR part 60, subpart KKK requires facilities to monitor for VOC leaks and report them to the EPA. The EPA is proposing that this data element is not confidential; and that it will be considered non-CBI.
29 98.236e | For onshore petroleum and natural gas production report the following: Best available estimate of the API gravity for each oil sub-basin category | The API gravity is a measurement of density of crude oil or petroleum product. Information about the API gravity for specific operators in a basin is publicly available through many state agencies (e.g., the Railroad Commission of Texas). Therefore, the disclosure of the API gravity is not likely to cause substantial competitive harm. Furthermore, this data element is reported as an average for the sub-basin rather than for individual wells, which further diminishes any sensitivity associated with disclosure of this data element. The EPA is proposing that this data element is not confidential; and that it will be considered non-CBI.
30 98.236e | For onshore petroleum and natural gas production report the following: Best available estimate of the gas to oil ratio for each oil sub-basin category | Gas to oil ratios can generally be determined by taking the ratio of the volume of gas that comes out of solution, to the volume of oil produced at specified conditions. Disclosure of the average gas to oil ratio of wells tested within a basin is not likely to cause substantial competitive harm because the gas to oil ratio for wells can be determined from information made public by many state agencies (e.g., the Railroad Commission of Texas). Also, this data element is reported as an average ratio for the sub-basin and is not reported on a per well basis, further diminishing sensitivity associated with disclosure. The EPA is proposing that this data element is not confidential; and that it will be considered non-CBI.
31 98.236e | For onshore petroleum and natural gas production report the following: Best available estimate of the average low pressure separator pressure for each oil sub-basin category | The low pressure separator refers to the last separator in a series of separators that are used for gravity separation of hydrocarbons into liquid and gas phases. Separator pressure, along with the gas-to-oil ratio and temperature of the separator, can be used to estimate throughput of natural gas and oil (or condensate) from the facility. However, throughput information is already available through state oil and gas commissions and commercial oil and gas databases as well as the EIA.²⁸ Hence, the EPA is proposing that this data element is not confidential; and that it will be considered non-CBI.
32 98.236c13iB | For compressors with wet seals in operational mode: Fraction of vent gas recovered for fuel or sales or flared | Compressors are sometimes equipped with wet seals. Wet seals form the barrier that keeps gas from seeping through the gap between the compressor shaft and the compressor casing. Knowing the fraction of vent gas recovered for fuel, sales, or flare can give an indication of the efficiency of the capture device. However, such efficiencies are common knowledge available from equipment vendors. In addition, knowing the fraction of gas captured can give an indication of the volume of gas captured. The volume of gas captured for sending to a flare or fuel system are a portion of the total flare emissions and total fuel consumed at a facility. Information on flare emissions from processing plants is publicly available through EIA. Because this type of information is available upstream, the EPA is proposing that the same type of information being reported by other facilities downstream of the processing plant will also not cause substantial competitive harm if disclosed and would not result in any competitive disadvantage to the reporters. Finally, the sales volume of gas, essentially the facility throughput, is public information available through state oil and gas commission websites and commercial oil and gas databases as well as the EIA.²⁹ Hence, the EPA is proposing that this data element is not confidential; and that it will be considered non-CBI.
33 98.236c8iiiD | Wellhead gas-liquid separators and wells with throughput less than 10 barrels per day, using Calculation Methodology 5 of 40 CFR 98.233(j) Equation W-15 of 40 CFR 98.233: Best estimate of fraction of production sent to tanks with assumed control measures: either vapor recovery system or flaring of tank vapors | The fraction of production sent to tanks with assumed control measures, either with vapor recovery systems or flares, refers to the amount of hydrocarbon liquids produced from wells that is sent to tanks with specified control measures. Information about the fraction of production sent to tanks with control measures would likely not cause substantial competitive harm because the estimated amount of methane and carbon dioxide emissions for tanks and separators are publicly available through EPA's National Inventory, thus diminishing the sensitivity of disclosing this data. Furthermore, the amount of gas captured, can indicate the increase in production throughput of the facility. However, this is already publicly available through many state oil and gas commissions, and is also available through commercial oil and gas databases as well as the EIA.³⁰ The EPA is proposing that this data element is not confidential; and that it will be considered non-CBI.
34 98.234f8i | Extension requests which request Best Available Monitoring Method (BAMM) beyond 2011 for sources listed in 40 CFR 98.234(f)(2), (3), (4), and (5)(iv): Initial electronic notice of intent to submit an extension request for the use of BAMM beyond December 31, 2011 | An initial notice of intent to extend the period during which BAMM is used does not contain detailed information, such as process diagrams and operational information, which could provide insight into facility-specific operating conditions or process design, or any other proprietary or sensitive information at a facility, and would likely not cause competitive harm if disclosed. The EPA is proposing that this data element is not confidential; and that it will be considered non-CBI.
35 98.234f8iiB | Extension requests which request BAMM beyond 2011 for sources listed in 40 CFR 98.234(f)(2), (3), (4), and (5)(iv): Description of the unique or unusual circumstances, such as data collection methodologies that do not meet safety regulations or specific laws or regulations that conflict for each source for which an owner or operator is requesting use of BAMM | The description of the unique or unusual circumstances, including data collection methodologies that the reporting facility cannot follow or of the monitoring instruments that cannot be installed does not reveal detailed information, such as process diagrams and operational information, which could provide insight into facility-specific operating conditions or process design, or any other proprietary or sensitive information at a facility, and would likely not cause competitive harm if disclosed. The EPA is proposing that this data element is not confidential; and that it will be considered non-CBI.
36 98.234f8iiB | Extension requests which request BAMM beyond 2011 for sources listed in 40 CFR 98.234(f) (2), (3), (4), and (5) (iv): Description of the unique or unusual circumstances, such as data collection methodologies that are technically infeasible for which an owner or operator is requesting use of BAMM | The description of the unique or unusual circumstances, including data collection methodologies that the reporting facility cannot follow or of the monitoring instruments that cannot be installed does not reveal detailed information, such as process diagrams and operational information, which could provide insight into facility-specific operating conditions or process design, or any other proprietary or sensitive information at a facility, and would likely not cause competitive harm if disclosed. The EPA is proposing that this data element is not confidential; and that it will be considered non-CBI.
37 98.234f8iiC | Extension requests which request BAMM beyond 2011 for sources listed in 40 CFR 98.234(f)(2), (3), (4), and (5)(iv): Detailed explanation and supporting documentation of how the owner or operator will receive the services or equipment to comply with all of these subpart W reporting requirements | A description of the methods by which the necessary equipment and services will be secured does not reveal detailed information, such as process diagrams and operational information, which could provide insight into facility-specific operating conditions or process design, or any other proprietary or sensitive information at a facility, and would likely not cause competitive harm if disclosed. The EPA is proposing that this data element is not confidential; and that it will be considered non-CBI.
38 98.234f8iiC | Extension requests which request BAMM beyond 2011 for sources listed in 40 CFR 98.234(f)(2), (3), (4), and (5)(iv): Detailed explanation and supporting documentation of when the owner or operator will receive the services or equipment to comply with all of these subpart W reporting requirements. Proposed as CBI | This data element includes the dates by which the owner or operator will receive the services or equipment necessary to comply with all of the subpart W reporting requirements. The EPA is proposing that this data element be confidential because it would reveal information to a competitor about when a facility would be installing equipment or when the facility would plan to perform the necessary modifications to their processes in order to comply with the rule. The disclosure of this type of sensitive information about a facility's internal processes may give a competitor an unfair advantage. See 40 CFR 98.234(f) (8)(ii)(C). The EPA is proposing that this data element be confidential; and that it will be considered CBI. (Proposed as CBI).

¹⁵ http://www.eia.gov/cfapps/ngqs/ngqs.cfm?f_report=RP1.

¹⁶ http://www.didesktop.com/products/.

¹⁷ http://www.didesktop.com/products/.

¹⁸ http://www.eia.gov/cfapps/ngqs/ngqs.cfm?f_report=RP1.

¹⁹ http://www.eia.gov/cfapps/ngqs/ngqs.cfm?f_report=RP1.

²⁰ http://www.eia.gov/cfapps/ngqs/ngqs.cfm?f_report=RP1.

²¹ http://www.eia.gov/cfapps/ngqs/ngqs.cfm?f_report=RP1.

²² http://www.epa.gov/gasstar/documents/emissions_report/6_vented.pdf.

²³ http://www.boemre.gov/ntls/PDFs/2011-N04FlareMeterSigned05-16-2011.pdf.

²⁴ August 2011, GTI's Gas Resource Database—Unconventional Natural Gas and Gas Composition Databases, GRI—01/0136.

²⁵ http://www.netl.doe.gov/technologies/oil-gas/publications/EPreports/ResourceAssess/Final_28139.pdf.

²⁶ August 2011, GTI's Gas Resource Database—Unconventional Natural Gas and Gas Composition Databases, GRI—01/0136.

²⁷ http://www.netl.doe.gov/technologies/oil-gas/publications/EPreports/ResourceAssess/Final_28139.pdf.

²⁸ http://www.eia.gov/cfapps/ngqs/ngqs.cfm?f_report=RP1.

²⁹ http://www.eia.gov/cfapps/ngqs/ngqs.cfm?f_report=RP1.

³⁰ http://www.eia.gov/cfapps/ngqs/ngqs.cfm?f_report=RP1.

D. Commenting on the Proposed Confidentiality Determinations

We seek comment on the proposed confidentiality status of data elements in two direct emitter data categories: “Unit/Process `Static' Characteristics that Are Not Inputs to Emission Equations” and “Unit/Process Operating Characteristics that Are Not Inputs to Emission Equations”. By the EPA's proposing confidentiality determinations prior to data reporting through this proposal and rulemaking process, we provide potential reporters an opportunity to submit comments identifying data they consider sensitive and the rationales and supporting documentation, the same as those they would otherwise submit for case-by-case confidentiality determinations. We will evaluate claims of confidentiality before finalizing the confidentiality determinations. Please note that this will be reporters' only opportunity to substantiate your confidentiality claim. Once finalized, the EPA will release or withhold subpart W data in accordance with 40 CFR 2.301, which contains special provisions governing the treatment of Part 98 data for which confidentiality determinations have been made through rulemaking. Please consider the following instructions in submitting comments on the data elements in subpart W.

Please identify each individual data element you do or do not consider to be CBI or emission data in your comments. Please explain specifically how the public release of that particular data element would or would not cause a competitive disadvantage to a facility. Discuss how this data element may be different from or similar to data that are already publicly available. Please submit information identifying any publicly available sources of information containing the specific data elements in question, since data that are already available through other sources would not be proposed as CBI. In your comments, please identify the manner and location in which each specific data element you identify is available, including a citation. If the data are physically published, such as in a book, industry trade publication, or federal agency publication, provide the title, volume number (if applicable), author(s), publisher, publication date, and ISBN or other identifier. For data published on a Web site, provide the address of the Web site and the date you last visited the Web site and identify the Web site publisher and content author.

If your concern is that competitors could use a particular input to discern sensitive information, specifically describe the pathway by which this could occur and explain how the discerned information would negatively affect your competitive position. Describe any unique process or aspect of your facility that would be revealed if the particular data element(s) you consider sensitive were made publicly available. If the data element you identify would cause harm only when used in combination with other publicly available data, then describe the other data, identify the public source(s) of these data, and explain how the combination of data could be used to cause competitive harm. Describe the measures currently taken to keep the data confidential. Avoid conclusory and unsubstantiated statements, or general assertions regarding potential harm. Please be as specific as possible in your comments and include all information necessary for the EPA to evaluate your comments.

IV. Proposed Deferral of Inputs to Emission Equations for Subpart W and Amendments to Table A-7

Of the 154 subpart W data elements that were revised in the Subpart W Technical Revisions Rule, 30 are “Inputs to Emission Equations”. All 30 are revisions to existing “Inputs to Emission Equations” that were addressed in the Final Deferral and included in Table A-7 to subpart A of Part 98. For the 30 revised inputs, the revisions did not change the type of information to be reported to the EPA under these requirements. For 19 of the 30 inputs, the changes included minor wording changes such as requiring certain data elements be reported by “sub-basin” instead of “field” or small clarifications that did not change the general meaning of the data elements. For 11 of the 30 inputs, the Technical Revisions Rule re-numerated the section references. We are therefore proposing in this action to amend Table A-7 of Part 98 by re-numerating these 11 subpart W “Inputs to Emission Equations” as finalized in the Subpart W Technical Revisions Rule.

The Subpart W Technical Revisions Rule also added the following 10 new data elements, which we are proposing to assign to the “Inputs to Emission Equations” data category and to defer their reporting until March 31, 2015. The proposed inputs include the following 10 data elements:

• Annual quantity of CO2, that was recovered from each acid gas removal unit and transferred outside the facility (metric tons CO2e), under subpart PP of this part. (40 CFR 98.236(c)(3)(iv))

• Blowdown vent stack emission source, for each unique physical volume that is blown down more than once during the calendar year: Report total number of blowdowns for each unique physical volume in the calendar year (when using Eq. W-14A). (40 CFR 98.236(c)(7)(i)(A))

• Wellhead gas-liquid separator with oil throughput greater than or equal to 10 barrels per day, using Calculation Methodology 1 of 40 CFR 98.233(j), report by sub-basin category: Annual CO2 gas quantities that were recovered (metric tons CO2e), for all wellhead gas-liquid separators or storage tanks using Calculation Methodology 1 of 40 CFR 98.233(j). (40 CFR 98.236(c)(8)(i)(K))

• Wellhead gas-liquid separator with oil throughput greater than or equal to 10 barrels per day, using Calculation Methodology 1 of 40 CFR 98.233(j), report by sub-basin category: Report annual CH4 gas quantities that were recovered (metric tons CO2e), for all wellhead gas-liquid separators or storage tanks using Calculation Methodology 1 of 40 CFR 98.233(j). (40 CFR 98.236(c)(8)(i)(K))

• Wellhead gas-liquid separator with oil throughput greater than or equal to 10 barrels per day, using Calculation Methodology 2 of 40 CFR 98.233(j), report by sub-basin category: Report annual CO2 gas quantities that were recovered (metric tons CO2e), for all wellhead gas-liquid separators or storage tanks using Calculation Methodology 2 of 40 CFR 98.233(j). (40 CFR 98.236(c)(8)(i)(K))

• Wellhead gas-liquid separator with oil throughput greater than or equal to 10 barrels per day, using Calculation Methodology 2 of 40 CFR 98.233(j), report by sub-basin category: Report annual CH4 gas quantities that were recovered (metric tons CO2e), for all wellhead gas-liquid separators or storage tanks using Calculation Methodology 2 of 40 CFR 98.233(j). (40 CFR 98.236(c)(8)(i)(K))

• Wells with oil production greater than or equal to 10 barrels per day, using Calculation Methodology 3 and 4 of 40 CFR 98.233(j), report the following by sub-basin category: Report annual CO2 gas quantities that were recovered (metric tons CO2e), for Calculation Methodology 3 or 4 of 40 CFR 98.233(j). (40 CFR 98.236(c)(8)(ii)(H))

• Wells with oil production greater than or equal to 10 barrels per day, using Calculation Methodology 3 and 4 of 40 CFR 98.233(j), report the following by sub-basin category: Report annual CH4 gas quantities that were recovered (metric tons CO2e), for Calculation Methodology 3 or 4 of 40 CFR 98.233(j). (40 CFR 98.236(c)(8)(ii)(H))

• Wellhead gas-liquid separators and wells with throughput less than 10 barrels per day, using Calculation Methodology 5 of 40 CFR 98.233(j), Equation W-15 of 40 CFR 98.233: Annual CO2 gas quantities that were recovered (metric tons CO2e), at the sub-basin level for Calculation Methodology 5 of 40 CFR 98.233(j). (40 CFR 98.236(c)(8)(iii)(G))

• Wellhead gas-liquid separators and wells with throughput less than 10 barrels per day, using Calculation Methodology 5 of 40 CFR 98.233(j), Equation W-15 of 40 CFR 98.233: Report annual CH4 gas quantities that were recovered (metric tons CO2e), at the sub-basin level for Calculation Methodology 5 of 40 CFR 98.233(j). (40 CFR 98.236(c)(8)(iii)(G))

As explained in Section II.A of the Final Deferral, these 10 data elements are related to and therefore are being evaluated together along with the other subpart W data elements assigned to this category. As with the other equation inputs, we believe that to complete our evaluation we will need until March 31, 2015, the current reporting deadline for subpart W equation inputs. The EPA is therefore proposing to add these 10 inputs to Table A-7 of Part 98 to require their reporting by March 31, 2015. For more information, please refer to Section II.B. of this preamble.

We are also proposing to move 21 data elements that were categorized as “Inputs to Emission Equations” in the Final Deferral Rule to other categories. These data elements require aggregated data to be reported and not the specific values used in the equations. Therefore, the EPA is proposing to re-categorize these data elements as either “Unit/Process ‘Static’ Characteristics that Are Not Inputs to Emission Equations” or “Unit/Process Operating Characteristics that Are Not Inputs to Emission Equations”. Please see the memorandum entitled “Proposed Changes to Subpart W Inputs” in Docket ID No. EPA-HQ-OAR-2011-0028 for a comparison of the changes to Table A-7 of subpart A for subpart W data reporting elements.

V. Statutory and Executive Order Reviews

A. Executive Order 12866: Regulatory Planning and Review and Executive Order 13563: Improving Regulation and Regulatory Review

In this action, we are proposing to (1) Make confidentiality determinations for subpart W data elements (except for inputs to equations); and (2) make the changes described in this notice regarding subpart W data elements in Table A-7 of Part 98, which specifies the data elements to be reported by March 31, 2015.

Under Executive Order 12866 (58 FR 51735, October 4, 1993), this action is not a “significant regulatory action” under the terms of Executive Order 12866 (58 FR 51735, October 4, 1993) and is therefore not subject to review under Executive Orders 12866 and 13563 (76 FR 3821, January 21, 2011).

B. Paperwork Reduction Act

As previously mentioned, this action proposes confidentiality determinations for subpart W data elements (except for inputs to equations) and amendments to Table A-7 of Part 98. This action does not impose any new information collection burden. This action does not increase the reporting burden. The Office of Management and Budget (OMB) has previously approved the information collection requirements contained in subpart W, under 40 CFR part 98, under the provisions of the Paperwork Reduction Act, 44 U.S.C. 3501 et seq. The Information Collection Request (ICR) documents prepared by the EPA have been assigned OMB control number 2060-0651 for subpart W. The OMB control numbers for EPA regulations in 40 CFR are listed at 40 CFR part 9.

C. Regulatory Flexibility Act (RFA)

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this re-proposal on small entities, “small entity” is defined as: (1) A small business as defined by the Small Business Administration's regulations at 13 CFR 121.201; (2) a small governmental jurisdiction that is a government of a city, county, town, school district or special district with a population of less than 50,000; or (3) a small organization that is any not-for-profit enterprise which is independently owned and operated and is not dominant in its field.

This action proposes confidentiality determinations for subpart W data elements (except for inputs to equations) and amendments to Table A-7 of Part 98. After considering the economic impacts of this action on small entities, I certify that this action will not have a significant economic impact on a substantial number of small entities. This action will not impose any new requirement on small entities that are not currently required by Part 98.

The EPA took several steps to reduce the impact of Part 98 on small entities. For example, the EPA determined appropriate thresholds that reduced the number of small businesses reporting. In addition, the EPA did not require facilities to install continuous emission monitoring systems (CEMS) if they did not already have them. Facilities without CEMS can calculate emissions using readily available data or data that are less expensive to collect such as process data or material consumption data. For some source categories, the EPA developed tiered methods that are simpler and less burdensome. Also, the EPA required annual instead of more frequent reporting. Finally, the EPA continues to conduct significant outreach on the mandatory GHG reporting rule and maintains an “open door” policy for stakeholders to help inform EPA's understanding of key issues for the industries.

We continue to be interested in the potential impacts of this action on small entities and welcome comments on issues related to such effects.

D. Unfunded Mandates Reform Act (UMRA)

Title II of the Unfunded Mandates Reform Act of 1995 (UMRA), 2 U.S.C. 1531-1538, requires federal agencies, unless otherwise prohibited by law, to assess the effects of their regulatory actions on state, local, and tribal governments and the private sector. Federal agencies must also develop a plan to provide notice to small governments that might be significantly or uniquely affected by any regulatory requirements. The plan must enable officials of affected small governments to have meaningful and timely input in the development of EPA regulatory proposals with significant federal intergovernmental mandates and must inform, educate, and advise small governments on compliance with the regulatory requirements.

This action, which is proposing confidentiality determinations for subpart W data elements (except for inputs to equations) and amendments to Table A-7 of Part 98, does not contain a federal mandate that may result in expenditures of $100 million or more for state, local, and tribal governments, in the aggregate, or the private sector in any one year. This action does not increase the reporting burden. Thus, this action is not subject to the requirements of sections 202 or 205 of the UMRA.

In developing Part 98, the EPA consulted with small governments pursuant to a plan established under section 203 of the UMRA to address impacts of regulatory requirements in the rule that might significantly or uniquely affect small governments. For a summary of EPA's consultations with state and/or local officials or other representatives of state and/or local governments in developing Part 98, see Section VIII.D of the preamble to the final rule (74 FR 56370, October 30, 2009).

E. Executive Order 13132: Federalism

This action does not have federalism implications. It will not have substantial direct effects on the states, on the relationship between the national government and the states, or on the distribution of power and responsibilities among the various levels of government, as specified in Executive Order 13132. However, for a more detailed discussion about how Part 98 relates to existing state programs, please see Section II of the preamble to the final rule (74 FR 56266, October 30, 2009).

This action, which is proposing confidentiality determinations for subpart W data elements (except for inputs to equations) and amendments to Table A-7 of Part 98, applies to facilities containing petroleum and natural gas systems that directly emit greenhouses gases over 25,000 metric tons of CO2 equivalent. It does not apply to governmental entities unless a government entity owns a facility that directly emits greenhouse gases above threshold levels, so relatively few government facilities would be affected. This action also does not limit the power of states or localities to collect GHG data and/or regulate GHG emissions. Thus, Executive Order 13132 does not apply to this action.

In the spirit of Executive Order 13132, and consistent with EPA policy to promote communications between the EPA and state and local governments, the EPA specifically solicits comment on this proposed action from state and local officials. For a summary of EPA's consultation with state and local organizations and representatives in developing Part 98, see Section VIII.E of the preamble to the final rule (74 FR 56371, October 30, 2009).

F. Executive Order 13175: Consultation and Coordination With Indian Tribal Governments

This action, which is proposing confidentiality determinations for subpart W data elements (except for inputs to equations) and amendments to Table A-7 of Part 98, does not have tribal implications, as specified in Executive Order 13175 (65 FR 67249, November 9, 2000). This action does not increase the reporting burden. Thus, Executive Order 13175 does not apply to this action. For a summary of EPA's consultations with tribal governments and representatives, see Section VIII.F of the preamble to the final rule (74 FR 56371, October 30, 2009). The EPA specifically solicits additional comment on this proposed action from tribal officials.

G. Executive Order 13045: Protection of Children From Environmental Health Risks and Safety Risks

The EPA interprets Executive Order 13045 (62 FR 19885, April 23, 1997) as applying only to those regulatory actions that concern health or safety risks, such that the analysis required under section 5-501 of the Executive Order has the potential to influence the regulation. This action, which is proposing confidentiality determinations for subpart W data elements (except for inputs to equations) and amendments to Table A-7 of Part 98, is not subject to Executive Order 13045 because it does not establish an environmental standard intended to mitigate health or safety risks.

H. Executive Order 13211: Actions That Significantly Affect Energy Supply, Distribution, or Use

This action, which is proposing confidentiality determinations for subpart W data elements (except for inputs to equations) and amendments to Table A-7 of Part 98, is not subject to Executive Order 13211 (66 FR 28355, May 22, 2001), because it is not a significant regulatory action under Executive Order 12866 .

I. National Technology Transfer and Advancement Act

Section 12(d) of the National Technology Transfer and Advancement Act of 1995 (NTTAA), Public Law 104-113 (15 U.S.C. 272 note) directs the EPA to use voluntary consensus standards in its regulatory activities unless to do so would be inconsistent with applicable law or otherwise impractical. Voluntary consensus standards are technical standards (e.g., materials specifications, test methods, sampling procedures, and business practices) that are developed or adopted by voluntary consensus standards bodies. NTTAA directs the EPA to provide Congress, through OMB, explanations when the agency decides not to use available and applicable voluntary consensus standards.

This action, which is proposing confidentiality determinations for subpart W data elements (except for inputs to equations) and amendments to Table A-7 of Part 98, does not involve technical standards. Therefore, the EPA is not considering the use of any voluntary consensus standards.

J. Executive Order 12898: Federal Actions To Address Environmental Justice in Minority Populations and Low-Income Populations

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States. The EPA has determined that this action, which is proposing confidentiality determinations for subpart W data elements (except for inputs to equations) and amendments to Table A-7 of Part 98, will not have disproportionately high and adverse human health or environmental effects on minority or low-income populations because it does not affect the level of protection provided to human health or the environment. This action addresses only reporting and recordkeeping procedures.

List of Subjects 40 CFR Part 98

Environmental protection, Administrative practice and procedure, Greenhouse gases, Reporting and recordkeeping requirements.

Dated: February 16, 2012.
Lisa P. Jackson,
Administrator.

For the reasons stated in the preamble, title 40, Chapter I, of the Code of Federal Regulations is proposed to be amended as follows:

PART 98—[AMENDED]

1. The authority citation for part 98 continues to read as follows:

Authority: 42 U.S.C. 7401, et seq.

Subpart A—[Amended]

2. Table A-7 to subpart A of part 98 is amended by revising the entries for subpart W to read as follows:

Table A-7 to Subpart A of Part 98—Data Elements That Are Inputs to Emission Equations and for Which the Reporting Deadline Is March 31, 2015
Subpart | Rule citation (40 CFR part 98) | Specific data elements for which reporting date is March 31, 2015 (“All” means all data elements in the cited paragraph are not required to be reported until March 31, 2015).
* * * * * * *
W | 98.236(c)(1)(i) | All.
W | 98.236(c)(1)(ii) | All.
W | 98.236(c)(1)(iii) | All.
W | 98.236(c)(2)(i) | All.
W | 98.236(c)(3)(i) | All.
W | 98.236(c)(3)(ii) | Only Calculation Methodology 2.
W | 98.236(c)(3)(iii) | All.
W | 98.236(c)(3)(iv) | All.
W | 98.236(c)(4)(i)(A) | All.
W | 98.236(c)(4)(i)(B) | All.
W | 98.236(c)(4)(i)(C) | All.
W | 98.236(c)(4)(i)(D) | All.
W | 98.236(c)(4)(i)(E) | All.
W | 98.236(c)(4)(i)(F) | All.
W | 98.236(c)(4)(i)(G) | All.
W | 98.236(c)(4)(i)(H) | All.
W | 98.236(c)(4)(ii)(A) | All.
W | 98.236(c)(5)(i)(D) | All.
W | 98.236(c)(5)(ii)(C) | All.
W | 98.236(c)(6)(i)(B) | All.
W | 98.236(c)(6)(i)(D) | All.
W | 98.236(c)(6)(i)(E) | All.
W | 98.236(c)(6)(i)(F) | All.
W | 98.236(c)(6)(i)(G) | Only the amount of natural gas required.
W | 98.236(c)(6)(i)(H) | Only the amount of natural gas required.
W | 98.236(c)(6)(ii)(A) | All.
W | 98.236(c)(6)(ii)(B) | All.
W | 98.236(c)(7)(i)(A) | Only for Equation W-14A.
W | 98.236(c)(8)(i)(F) | All.
W | 98.236(c)(8)(i)(K) | All.
W | 98.236(c)(8)(ii)(A) | All.
W | 98.236(c)(8)(ii)(H) | All.
W | 98.236(c)(8)(iii)(A) | All.
W | 98.236(c)(8)(iii)(B) | All.
W | 98.236(c)(8)(iii)(G) | All.
W | 98.236(c)(12)(ii) | All.
W | 98.236(c)(12)(v) | All.
W | 98.236(c)(13)(i)(E) | All.
W | 98.236(c)(13)(i)(F) | All.
W | 98.236(c)(13)(ii)(A) | All.
W | 98.236(c)(13)(ii)(B) | All.
W | 98.236(c)(13)(iii)(A) | All.
W | 98.236(c)(13)(iii)(B) | All.
W | 98.236(c)(13)(v)(A) | All.
W | 98.236(c)(14)(i)(B) | All.
W | 98.236(c)(14)(ii)(A) | All.
W | 98.236(c)(14)(ii)(B) | All.
W | 98.236(c)(14)(iii)(A) | All.
W | 98.236(c)(14)(iii)(B) | All.
W | 98.236(c)(14)(v)(A) | All.
W | 98.236(c)(15)(ii)(A) | All.
W | 98.236(c)(15)(ii)(B) | All.
W | 98.236(c)(16)(viii) | All.
W | 98.236(c)(16)(ix) | All.
W | 98.236(c)(16)(x) | All.
W | 98.236(c)(16)(xi) | All.
W | 98.236(c)(16)(xii) | All.
W | 98.236(c)(16)(xiii) | All.
W | 98.236(c)(16)(xiv) | All.
W | 98.236(c)(16)(xv) | All.
W | 98.236(c)(16)(xvi) | All.
W | 98.236(c)(17)(ii) | All.
W | 98.236(c)(17)(iii) | All.
W | 98.236(c)(17)(iv) | All.
W | 98.236(c)(18)(i) | All.
W | 98.236(c)(18)(ii) | All.
W | 98.236(c)(19)(iv) | All.
W | 98.236(c)(19)(vii) | All.
* * * * * * *

[FR Doc. 2012-4320 Filed 2-23-12; 8:45 am]

BILLING CODE 6560-50-P